DEPARTMENT OF LABOR

Employment Standards Administration

Wage and Hour Division; Minimum Wages for Federal and Federally Assisted Construction; General Wage Determination Decisions

General wage determination decisions of the Secretary of Labor are issued in accordance with applicable law and are based on the information obtained by the department of Labor from its study of local wage conditions and data made available from other sources. They specify the basic hourly wage rates and fringe benefits which are determined to be prevailing for the described classes of laborers and mechanics employed on construction projects of a similar character and in the localities specified therein.

The determinations in these decisions of prevailing rates and fringe benefits have been made in accordance with 29 CFR part 1, by authority of the Secretary of Labor pursuant to the provisions of the Davis-Bacon Act of March 3, 1931, as amended (46 Stat. 1494, as amended, 40 U.S.C. 27a) and of other Federal statutes referred to in 29 CFR part 1, Appendix, as well as such additional statutes as may from time to time be enacted containing provisions for the payment of wages determined to be prevailing by the Secretary of Labor in accordance with the Davis-Bacon Act. The prevailing rates and fringe benefits determined in these decisions shall, in accordance with the provisions of the foregoing statutes, constitute the minimum wages payable on Federal and federally assisted construction projects to laborers and mechanics of the specified classes engaged on contract work of the character and in the localities described therein.

Good cause is hereby found for not utilizing notice and public comment procedure thereon prior to the issuance of these determinations as prescribed in 5 U.S.C. 553 and not providing for delay in the effective date as prescribed in that section, because the necessity to issue current construction industry wage determinations frequently and in large volume causes procedures to be impractical and contrary to the public interest.

General wage determination decisions, and modifications and supersedeas decisions thereto, contain no expiration dates and are effective from their date of notice in the Federal Register, or on the date written notice is received by the agency, whichever is earlier. These decisions are to be used in accordance with the provisions of 29 CFR parts 1 and 5. Accordingly, the applicable decision, together with any modifications issued, must be made a part of every contract for performance of the described work within the geographic area indicated as required by an applicable Federal prevailing wage law and 29 CFR part 5. The wage rates and fringe benefits, notice of which is published herein, and which are contained in the Government Printing Office (GPO) document entitled “General Wage Determinations Issued Under The Davis-Bacon And Related Acts,” shall be the minimum paid by contractors and subcontractors to laborers and mechanics.

Any person, organization, or government agency having an interest in the rates determined as prevailing is encouraged to submit wage rate and fringe benefit information for consideration by the Department. Further information and self-explanatory forms for the purpose of submitting this data may be obtained by writing to the U.S. Department of Labor, Employment Standards Administration, Wage and Hour Division, Division of Wage Determinations, 200 Constitution Avenue, NW., Room S-3014, Washington, DC 20210.

Supersedeas Decisions to General Wage Determination Decisions

The number of decisions being superseded and their date of notice in Federal Register are listed with each State. Supersedeas decision numbers are in parentheses following the number of decisions being superseded.

Volume I

Connecticut

CT01-01 (Mar. 2, 2001) (CT02-01)

CT01-02 (Mar. 2, 2001) (CT02-02)

CT01-03 (Mar. 2, 2001) (CT02-03)

CT01-04 (Mar. 2, 2001) (CT02-04)

CT01-05 (Mar. 2, 2001) (CT02-05)

CT01-06 (Mar. 2, 2001) (CT02-06)

CT01-07 (Mar. 2, 2001) (CT02-07)

CT01-08 (Mar. 2, 2001) (CT02-08)

Massachusetts

MA01-01 (Mar. 2, 2001) (MA02-01)

MA01-02 (Mar. 2, 2001) (MA02-02)

MA01-03 (Mar. 2, 2001) (MA02-03)

MA01-04 (Mar. 2, 2001) (MA02-04)

MA01-05 (Mar. 2, 2001) (MA02-05)

MA01-06 (Mar. 2, 2001) (MA02-06)

MA01-07 (Mar. 2, 2001) (MA02-07)

MA01-08 (Mar. 2, 2001) (MA02-08)

MA01-09 (Mar. 2, 2001) (MA02-09)

MA01-10 (Mar. 2, 2001) (MA02-10)

MA01-11 (Mar. 2, 2001) (MA02-11)

MA01-12 (Mar. 2, 2001) (MA02-12)

MA01-13 (Mar. 2, 2001) (MA02-13)

MA01-14 (Mar. 2, 2001) (MA02-14)

MA01-15 (Mar. 2, 2001) (MA02-15)

MA01-16 (Mar. 2, 2001) (MA02-16)

MA01-17 (Mar. 2, 2001) (MA02-17)

MA01-18 (Mar. 2, 2001) (MA02-18)

MA01-19 (Mar. 2, 2001) (MA02-19)

MA01-20 (Mar. 2, 2001) (MA02-20)

MA01-21 (Mar. 2, 2001) (MA02-21)

Maine

ME01-01 (Mar. 2, 2001) (ME02-01)

ME01-02 (Mar. 2, 2001) (ME02-02)

ME01-03 (Mar. 2, 2001) (ME02-03)

ME01-04 (Mar. 2, 2001) (ME02-04)

ME01-05 (Mar. 2, 2001) (ME02-05)

ME01-06 (Mar. 2, 2001) (ME02-06)

ME01-07 (Mar. 2, 2001) (ME02-07)

ME01-08 (Mar. 2, 2001) (ME02-08)

ME01-09 (Mar. 2, 2001) (ME02-09)

ME01-10 (Mar. 2, 2001) (ME02-10)

ME01-11 (Mar. 2, 2001) (ME02-11)

ME01-12 (Mar. 2, 2001) (ME02-12)

ME01-13 (Mar. 2, 2001) (ME02-13)

ME01-14 (Mar. 2, 2001) (ME02-14)

ME01-15 (Mar. 2, 2001) (ME02-15)

ME01-16 (Mar. 2, 2001) (ME02-16)

New Hampshire

NH01-01 (Mar. 2, 2001) (NH02-01)

NH01-02 (Mar. 2, 2001) (NH02-02)

NH01-03 (Mar. 2, 2001) (NH02-03)

NH01-04 (Mar. 2, 2001) (NH02-04)

NH01-05 (Mar. 2, 2001) (NH02-05)

NH01-06 (Mar. 2, 2001) (NH02-06)

NH01-07 (Mar. 2, 2001) (NH02-07)

NH01-08 (Mar. 2, 2001) (NH02-08)

NH01-09 (Mar. 2, 2001) (NH02-09)

NH01-10 (Mar. 2, 2001) (NH02-10)

NH01-11 (Mar. 2, 2001) (NH02-11)

NH01-12 (Mar. 2, 2001) (NH02-12)

New Jersey

NJ01-01 (Mar. 2, 2001) (NJ02-01)

NJ01-02 (Mar. 2, 2001) (NJ02-02)

NJ01-03 (Mar. 2, 2001) (NJ02-03)

NJ01-04 (Mar. 2, 2001) (NJ02-04)

NJ01-05 (Mar. 2, 2001) (NJ02-05)

NJ01-06 (Mar. 2, 2001) (NJ02-06)

NJ01-07 (Mar. 2, 2001) (NJ02-07)

NJ01-08 (Mar. 2, 2001) (NJ02-08)

NJ01-09 (Mar. 2, 2001) (NJ02-09)

New York

NY01-01 (Mar. 2, 2001) (NY02-01)

NY01-02 (Mar. 2, 2001) (NY02-02)

NY01-03 (Mar. 2, 2001) (NY02-03)

NY01-04 (Mar. 2, 2001) (NY02-04)

NY01-05 (Mar. 2, 2001) (NY02-05)

NY01-06 (Mar. 2, 2001) (NY02-06)

NY01-07 (Mar. 2, 2001) (NY02-07)

NY01-08 (Mar. 2, 2001) (NY02-08)

NY01-09 (Mar. 2, 2001) (NY02-09)

NY01-10 (Mar. 2, 2001) (NY02-10)

NY01-11 (Mar. 2, 2001) (NY02-11)

NY01-12 (Mar. 2, 2001) (NY02-12)

NY01-13 (Mar. 2, 2001) (NY02-13)

NY01-14 (Mar. 2, 2001) (NY02-14)

NY01-15 (Mar. 2, 2001) (NY02-15)

NY01-16 (Mar. 2, 2001) (NY02-16)

NY01-17 (Mar. 2, 2001) (NY02-17)

NY01-18 (Mar. 2, 2001) (NY02-18)

NY01-19 (Mar. 2, 2001) (NY02-19)

NY01-20 (Mar. 2, 2001) (NY02-20)

NY01-21 (Mar. 2, 2001) (NY02-21)

NY01-22 (Mar. 2, 2001) (NY02-22)

NY01-23 (Mar. 2, 2001) (NY02-23)

NY01-24 (Mar. 2, 2001) (NY02-24)

NY01-25 (Mar. 2, 2001) (NY02-25)

NY01-26 (Mar. 2, 2001) (NY02-26)

NY01-27 (Mar. 2, 2001) (NY02-27)

NY01-28 (Mar. 2, 2001) (NY02-28)

NY01-29 (Mar. 2, 2001) (NY02-29)

NY01-30 (Mar. 2, 2001) (NY02-30)

NY01-31 (Mar. 2, 2001) (NY02-31)

NY01-32 (Mar. 2, 2001) (NY02-32)

NY01-33 (Mar. 2, 2001) (NY02-33)

NY01-34 (Mar. 2, 2001) (NY02-34)

NY01-35 (Mar. 2, 2001) (NY02-35)

NY01-36 (Mar. 2, 2001) (NY02-36)

NY01-37 (Mar. 2, 2001) (NY02-37)

NY01-38 (Mar. 2, 2001) (NY02-38)

NY01-39 (Mar. 2, 2001) (NY02-39)

NY01-40 (Mar. 2, 2001) (NY02-40)

NY01-41 (Mar. 2, 2001) (NY02-41)

NY01-42 (Mar. 2, 2001) (NY02-42)

NY01-43 (Mar. 2, 2001) (NY02-43)

NY01-44 (Mar. 2, 2001) (NY02-44)

NY01-45 (Mar. 2, 2001) (NY02-45)

NY01-46 (Mar. 2, 2001) (NY02-46)

NY01-47 (Mar. 2, 2001) (NY02-47)

NY01-48 (Mar. 2, 2001) (NY02-48)

NY01-49 (Mar. 2, 2001) (NY02-49)

NY01-50 (Mar. 2, 2001) (NY02-50)

NY01-51 (Mar. 2, 2001) (NY02-51)

NY01-52 (Mar. 2, 2001) (NY02-52)

NY01-53 (Mar. 2, 2001) (NY02-53)

NY01-54 (Mar. 2, 2001) (NY02-54)

NY01-55 (Mar. 2, 2001) (NY02-55)

NY01-56 (Mar. 2, 2001) (NY02-56)

NY01-57 (Mar. 2, 2001) (NY02-57)

NY01-58 (Mar. 2, 2001) (NY02-58)

NY01-59 (Mar. 2, 2001) (NY02-59)

NY01-60 (Mar. 2, 2001) (NY02-60)

NY01-61 (Mar. 2, 2001) (NY02-61)

NY01-62 (Mar. 2, 2001) (NY02-62)

NY01-63 (Mar. 2, 2001) (NY02-63)

NY01-64 (Mar. 2, 2001) (NY02-64)

NY01-65 (Mar. 2, 2001) (NY02-65)

NY01-66 (Mar. 2, 2001) (NY02-66)

NY01-67 (Mar. 2, 2001) (NY02-67)

NY01-68 (Mar. 2, 2001) (NY02-68)

NY01-69 (Mar. 2, 2001) (NY02-69)

NY01-70 (Mar. 2, 2001) (NY02-70)

NY01-71 (Mar. 2, 2001) (NY02-71)

NY01-72 (Mar. 2, 2001) (NY02-72)

NY01-73 (Mar. 2, 2001) (NY02-73)

NY01-74 (Mar. 2, 2001) (NY02-74)

NY01-75 (Mar. 2, 2001) (NY02-75)

NY01-76 (Mar. 2, 2001) (NY02-76)

NY01-77 (Mar. 2, 2001) (NY02-77)

Guam

GU01-01 (Mar. 2, 2001) (GU02-01)

Puerto Rico

PR01-01 (Mar. 2, 2001) (PR02-01)

PR01-02 (Mar. 2, 2001) (PR02-02)

PR01-03 (Mar. 2, 2001) (PR02-03)

Rhode Island

RI01-01 (Mar. 2, 2001) (RI02-01)

RI01-02 (Mar. 2, 2001) (RI02-02)

RI01-03 (Mar. 2, 2001) (RI02-03)

RI01-04 (Mar. 2, 2001) (RI02-04)

RI01-05 (Mar. 2, 2001) (RI02-05)

Virgin Islands

VI01-01 (Mar. 2, 2001) (VI02-01)

VI01-02 (Mar. 2, 2001) (VI02-02)

Vermont

VT01-01 (Mar. 2, 2001) (VT02-01)

VT01-02 (Mar. 2, 2001) (VT02-02)

VT01-03 (Mar. 2, 2001) (VT02-03)

VT01-04 (Mar. 2, 2001) (VT02-04)

VT01-05 (Mar. 2, 2001) (VT02-05)

VT01-06 (Mar. 2, 2001) (VT02-06)

VT01-07 (Mar. 2, 2001) (VT02-07)

VT01-08 (Mar. 2, 2001) (VT02-08)

VT01-09 (Mar. 2, 2001) (VT02-09)

VT01-10 (Mar. 2, 2001) (VT02-10)

VT01-11 (Mar. 2, 2001) (VT02-11)

VT01-12 (Mar. 2, 2001) (VT02-12)

VT01-13 (Mar. 2, 2001) (VT02-13)

VT01-14 (Mar. 2, 2001) (VT02-14)

VT01-15 (Mar. 2, 2001) (VT02-15)

VT01-16 (Mar. 2, 2001) (VT02-16)

VT01-17 (Mar. 2, 2001) (VT02-17)

VT01-18 (Mar. 2, 2001) (VT02-18)

VT01-19 (Mar. 2, 2001) (VT02-19)

VT01-20 (Mar. 2, 2001) (VT02-20)

VT01-21 (Mar. 2, 2001) (VT02-21)

VT01-22 (Mar. 2, 2001) (VT02-22)

VT01-23 (Mar. 2, 2001) (VT02-23)

VT01-24 (Mar. 2, 2001) (VT02-24)

VT01-25 (Mar. 2, 2001) (VT02-25)

VT01-26 (Mar. 2, 2001) (VT02-26)

VT01-27 (Mar. 2, 2001) (VT02-27)

VT01-28 (Mar. 2, 2001) (VT02-28)

VT01-29 (Mar. 2, 2001) (VT02-29)

VT01-30 (Mar. 2, 2001) (VT02-30)

VT01-31 (Mar. 2, 2001) (VT02-31)

VT01-32 (Mar. 2, 2001) (VT02-32)

VT01-33 (Mar. 2, 2001) (VT02-33)

VT01-34 (Mar. 2, 2001) (VT02-34)

VT01-35 (Mar. 2, 2001) (VT02-35)

VT01-36 (Mar. 2, 2001) (VT02-36)

VT01-37 (Mar. 2, 2001) (VT02-37)

VT01-38 (Mar. 2, 2001) (VT02-38)

VT01-39 (Mar. 2, 2001) (VT02-39)

VT01-40 (Mar. 2, 2001) (VT02-40)

VT01-41 (Mar. 2, 2001) (VT02-41)

VT01-42 (Mar. 2, 2001) (VT02-42)

VT01-43 (Mar. 2, 2001) (VT02-43)

Volume II

District of Columbia

DC01-01 (Mar. 2, 2001) (DC02-01)

DC01-02 (Mar. 2, 2001) (DC02-02)

DC01-03 (Mar. 2, 2001) (DC02-03)

Delaware

DE01-01 (Mar. 2, 2001) (DE02-01)

DE01-02 (Mar. 2, 2001) (DE02-02)

DE01-03 (Mar. 2, 2001) (DE02-03)

DE01-04 (Mar. 2, 2001) (DE02-04)

DE01-05 (Mar. 2, 2001) (DE02-05)

DE01-06 (Mar. 2, 2001) (DE02-06)

DE01-07 (Mar. 2, 2001) (DE02-07)

DE01-08 (Mar. 2, 2001) (DE02-08)

DE01-09 (Mar. 2, 2001) (DE02-09)

DE01-10 (Mar. 2, 2001) (DE02-10)

Maryland

MD01-01 (Mar. 2, 2001) (MD02-01)

MD01-02 (Mar. 2, 2001) (MD02-02)

MD01-03 (Mar. 2, 2001) (MD02-03)

MD01-04 (Mar. 2, 2001) (MD02-04)

MD01-05 (Mar. 2, 2001) (MD02-05)

MD01-06 (Mar. 2, 2001) (MD02-06)

MD01-07 (Mar. 2, 2001) (MD02-07)

MD01-08 (Mar. 2, 2001) (MD02-08)

MD01-09 (Mar. 2, 2001) (MD02-09)

MD01-10 (Mar. 2, 2001) (MD02-10)

MD01-11 (Mar. 2, 2001) (MD02-11)

MD01-12 (Mar. 2, 2001) (MD02-12)

MD01-13 (Mar. 2, 2001) (MD02-13)

MD01-14 (Mar. 2, 2001) (MD02-14)

MD01-15 (Mar. 2, 2001) (MD02-15)

MD01-16 (Mar. 2, 2001) (MD02-16)

MD01-17 (Mar. 2, 2001) (MD02-17)

MD01-18 (Mar. 2, 2001) (MD02-18)

MD01-19 (Mar. 2, 2001) (MD02-19)

MD01-20 (Mar. 2, 2001) (MD02-20)

MD01-21 (Mar. 2, 2001) (MD02-21)

MD01-22 (Mar. 2, 2001) (MD02-22)

MD01-23 (Mar. 2, 2001) (MD02-23)

MD01-24 (Mar. 2, 2001) (MD02-24)

MD01-25 (Mar. 2, 2001) (MD02-25)

MD01-26 (Mar. 2, 2001) (MD02-26)

MD01-27 (Mar. 2, 2001) (MD02-27)

MD01-28 (Mar. 2, 2001) (MD02-28)

MD01-29 (Mar. 2, 2001) (MD02-29)

MD01-30 (Mar. 2, 2001) (MD02-30)

MD01-31 (Mar. 2, 2001) (MD02-31)

MD01-32 (Mar. 2, 2001) (MD02-32)

MD01-33 (Mar. 2, 2001) (MD02-33)

MD01-34 (Mar. 2, 2001) (MD02-34)

MD01-35 (Mar. 2, 2001) (MD02-35)

MD01-36 (Mar. 2, 2001) (MD02-36)

MD01-37 (Mar. 2, 2001) (MD02-37)

MD01-38 (Mar. 2, 2001) (MD02-38)

MD01-39 (Mar. 2, 2001) (MD02-39)

MD01-40 (Mar. 2, 2001) (MD02-40)

MD01-41 (Mar. 2, 2001) (MD02-41)

MD01-42 (Mar. 2, 2001) (MD02-42)

MD01-43 (Mar. 2, 2001) (MD02-43)

MD01-44 (Mar. 2, 2001) (MD02-44)

MD01-45 (Mar. 2, 2001) (MD02-45)

MD01-46 (Mar. 2, 2001) (MD02-46)

MD01-47 (Mar. 2, 2001) (MD02-47)

MD01-48 (Mar. 2, 2001) (MD02-48)

MD01-49 (Mar. 2, 2001) (MD02-49)

MD01-50 (Mar. 2, 2001) (MD02-50)

MD01-51 (Mar. 2, 2001) (MD02-51)

MD01-52 (Mar. 2, 2001) (MD02-52)

MD01-53 (Mar. 2, 2001) (MD02-53)

MD01-54 (Mar. 2, 2001) (MD02-54)

MD01-55 (Mar. 2, 2001) (MD02-55)

MD01-56 (Mar. 2, 2001) (MD02-56)

MD01-57 (Mar. 2, 2001) (MD02-57)

MD01-58 (Mar. 2, 2001) (MD02-58)

MD01-59 (Mar. 2, 2001) (MD02-59)

MD01-60 (Mar. 2, 2001) (MD02-60)

Pennsylvania

PA01-01 (Mar. 2, 2001) (PA02-01)

PA01-02 (Mar. 2, 2001) (PA02-02)

PA01-03 (Mar. 2, 2001) (PA02-03)

PA01-04 (Mar. 2, 2001) (PA02-04)

PA01-05 (Mar. 2, 2001) (PA02-05)

PA01-06 (Mar. 2, 2001) (PA02-06)

PA01-07 (Mar. 2, 2001) (PA02-07)

PA01-08 (Mar. 2, 2001) (PA02-08)

PA01-09 (Mar. 2, 2001) (PA02-09)

PA01-10 (Mar. 2, 2001) (PA02-10)

PA01-11 (Mar. 2, 2001) (PA02-11)

PA01-12 (Mar. 2, 2001) (PA02-12)

PA01-13 (Mar. 2, 2001) (PA02-13)

PA01-14 (Mar. 2, 2001) (PA02-14)

PA01-15 (Mar. 2, 2001) (PA02-15)

PA01-16 (Mar. 2, 2001) (PA02-16)

PA01-17 (Mar. 2, 2001) (PA02-17)

PA01-18 (Mar. 2, 2001) (PA02-18)

PA01-19 (Mar. 2, 2001) (PA02-19)

PA01-20 (Mar. 2, 2001) (PA02-20)

PA01-21 (Mar. 2, 2001) (PA02-21)

PA01-22 (Mar. 2, 2001) (PA02-22)

PA01-23 (Mar. 2, 2001) (PA02-23)

PA01-24 (Mar. 2, 2001) (PA02-24)

PA01-25 (Mar. 2, 2001) (PA02-25)

PA01-26 (Mar. 2, 2001) (PA02-26)

PA01-27 (Mar. 2, 2001) (PA02-27)

PA01-28 (Mar. 2, 2001) (PA02-28)

PA01-29 (Mar. 2, 2001) (PA02-29)

PA01-30 (Mar. 2, 2001) (PA02-30)

PA01-31 (Mar. 2, 2001) (PA02-31)

PA01-32 (Mar. 2, 2001) (PA02-32)

PA01-33 (Mar. 2, 2001) (PA02-33)

PA01-34 (Mar. 2, 2001) (PA02-34)

PA01-35 (Mar. 2, 2001) (PA02-35)

PA01-36 (Mar. 2, 2001) (PA02-36)

PA01-37 (Mar. 2, 2001) (PA02-37)

PA01-38 (Mar. 2, 2001) (PA02-38)

PA01-39 (Mar. 2, 2001) (PA02-39)

PA01-40 (Mar. 2, 2001) (PA02-40)

PA01-41 (Mar. 2, 2001) (PA02-41)

PA01-42 (Mar. 2, 2001) (PA02-42)

PA01-43 (Mar. 2, 2001) (PA02-43)

PA01-44 (Mar. 2, 2001) (PA02-44)

PA01-45 (Mar. 2, 2001) (PA02-45)

PA01-46 (Mar. 2, 2001) (PA02-46)

PA01-47 (Mar. 2, 2001) (PA02-47)

PA01-48 (Mar. 2, 2001) (PA02-48)

PA01-49 (Mar. 2, 2001) (PA02-49)

PA01-50 (Mar. 2, 2001) (PA02-50)

PA01-51 (Mar. 2, 2001) (PA02-51)

PA01-52 (Mar. 2, 2001) (PA02-52)

PA01-53 (Mar. 2, 2001) (PA02-53)

PA01-54 (Mar. 2, 2001) (PA02-54)

PA01-55 (Mar. 2, 2001) (PA02-55)

PA01-56 (Mar. 2, 2001) (PA02-56)

PA01-57 (Mar. 2, 2001) (PA02-57)

PA01-58 (Mar. 2, 2001) (PA02-58)

PA01-59 (Mar. 2, 2001) (PA02-59)

PA01-60 (Mar. 2, 2001) (PA02-60)

PA01-61 (Mar. 2, 2001) (PA02-61)

PA01-62 (Mar. 2, 2001) (PA02-62)

PA01-63 (Mar. 2, 2001) (PA02-63)

PA01-64 (Mar. 2, 2001) (PA02-64)

PA01-65 (Mar. 2, 2001) (PA02-65)

Virginia

VA01-01 (Mar. 2, 2001) (VA02-01)

VA01-02 (Mar. 2, 2001) (VA02-02)

VA01-03 (Mar. 2, 2001) (VA02-03)

VA01-04 (Mar. 2, 2001) (VA02-04)

VA01-05 (Mar. 2, 2001) (VA02-05)

VA01-06 (Mar. 2, 2001) (VA02-06)

VA01-07 (Mar. 2, 2001) (VA02-07)

VA01-08 (Mar. 2, 2001) (VA02-08)

VA01-09 (Mar. 2, 2001) (VA02-09)

VA01-10 (Mar. 2, 2001) (VA02-10)

VA01-11 (Mar. 2, 2001) (VA02-11)

VA01-12 (Mar. 2, 2001) (VA02-12)

VA01-13 (Mar. 2, 2001) (VA02-13)

VA01-14 (Mar. 2, 2001) (VA02-14)

VA01-15 (Mar. 2, 2001) (VA02-15)

VA01-16 (Mar. 2, 2001) (VA02-16)

VA01-17 (Mar. 2, 2001) (VA02-17)

VA01-18 (Mar. 2, 2001) (VA02-18)

VA01-19 (Mar. 2, 2001) (VA02-19)

VA01-20 (Mar. 2, 2001) (VA02-20)

VA01-21 (Mar. 2, 2001) (VA02-22)

VA01-22 (Mar. 2, 2001) (VA02-22)

VA01-23 (Mar. 2, 2001) (VA02-23)

VA01-24 (Mar. 2, 2001) (VA02-24)

VA01-25 (Mar. 2, 2001) (VA02-25)

VA01-26 (Mar. 2, 2001) (VA02-26)

VA01-27 (Mar. 2, 2001) (VA02-27)

VA01-28 (Mar. 2, 2001) (VA02-28)

VA01-29 (Mar. 2, 2001) (VA02-29)

VA01-30 (Mar. 2, 2001) (VA02-30)

VA01-31 (Mar. 2, 2001) (VA02-31)

VA01-32 (Mar. 2, 2001) (VA02-32)

VA01-33 (Mar. 2, 2001) (VA02-33)

VA01-34 (Mar. 2, 2001) (VA02-34)

VA01-35 (Mar. 2, 2001) (VA02-35)

VA01-36 (Mar. 2, 2001) (VA02-36)

VA01-37 (Mar. 2, 2001) (VA02-37)

VA01-38 (Mar. 2, 2001) (VA02-38)

VA01-39 (Mar. 2, 2001) (VA02-39)

VA01-40 (Mar. 2, 2001) (VA02-40)

VA01-41 (Mar. 2, 2001) (VA02-41)

VA01-42 (Mar. 2, 2001) (VA02-42)

VA01-43 (Mar. 2, 2001) (VA02-43)

VA01-44 (Mar. 2, 2001) (VA02-44)

VA01-45 (Mar. 2, 2001) (VA02-45)

VA01-46 (Mar. 2, 2001) (VA02-46)

VA01-47 (Mar. 2, 2001) (VA02-47)

VA01-48 (Mar. 2, 2001) (VA02-48)

VA01-49 (Mar. 2, 2001) (VA02-49)

VA01-50 (Mar. 2, 2001) (VA02-50)

VA01-51 (Mar. 2, 2001) (VA02-51)

VA02-52 (Mar. 2, 2001) (VA02-52)

VA01-53 (Mar. 2, 2001) (VA02-53)

VA01-54 (Mar. 2, 2001) (VA02-54)

VA01-55 (Mar. 2, 2001) (VA02-55)

VA01-56 (Mar. 2, 2001) (VA02-56)

VA01-57 (Mar. 2, 2001) (VA02-57)

VA01-58 (Mar. 2, 2001) (VA02-58)

VA01-59 (Mar. 2, 2001) (VA02-59)

VA01-60 (Mar. 2, 2001) (VA02-60)

VA01-61 (Mar. 2, 2001) (VA02-61)

VA01-62 (Mar. 2, 2001) (VA02-62)

VA01-63 (Mar. 2, 2001) (VA02-63)

VA01-64 (Mar. 2, 2001) (VA02-64)

VA01-65 (Mar. 2, 2001) (VA02-65)

VA01-66 (Mar. 2, 2001) (VA02-66)

VA01-67 (Mar. 2, 2001) (VA02-67)

VA01-68 (Mar. 2, 2001) (VA02-68)

VA01-69 (Mar. 2, 2001) (VA02-69)

VA01-70 (Mar. 2, 2001) (VA02-70)

VA01-71 (Mar. 2, 2001) (VA02-71)

VA01-72 (Mar. 2, 2001) (VA02-72)

VA01-73 (Mar. 2, 2001) (VA02-73)

VA01-74 (Mar. 2, 2001) (VA02-74)

VA01-75 (Mar. 2, 2001) (VA02-75)

VA01-76 (Mar. 2, 2001) (VA02-76)

VA01-77 (Mar. 2, 2001) (VA02-77)

VA01-78 (Mar. 2, 2001) (VA02-78)

VA01-79 (Mar. 2, 2001) (VA02-79)

VA01-80 (Mar. 2, 2001) (VA02-80)

VA01-81 (Mar. 2, 2001) (VA02-81)

VA01-82 (Mar. 2, 2001) (VA02-82)

VA01-83 (Mar. 2, 2001) (VA02-83)

VA01-84 (Mar. 2, 2001) (VA02-84)

VA01-85 (Mar. 2, 2001) (VA02-85)

VA01-86 (Mar. 2, 2001) (VA02-86)

VA01-87 (Mar. 2, 2001) (VA02-87)

VA01-88 (Mar. 2, 2001) (VA02-88)

VA01-89 (Mar. 2, 2001) (VA02-89)

VA01-90 (Mar. 2, 2001) (VA02-90)

VA01-91 (Mar. 2, 2001) (VA02-91)

VA01-92 (Mar. 2, 2001) (VA02-92)

VA01-93 (Mar. 2, 2001) (VA02-93)

VA01-94 (Mar. 2, 2001) (VA02-94)

VA01-95 (Mar. 2, 2001) (VA02-95)

VA01-96 (Mar. 2, 2001) (VA02-96)

VA01-97 (Mar. 2, 2001) (VA02-97)

VA01-98 (Mar. 2, 2001) (VA02-98)

VA01-99 (Mar. 2, 2001) (VA02-99)

VA01-100 (Mar. 2, 2001) (VA02-100)

VA01-101 (Mar. 2, 2001) (VA02-101)

VA01-102 (Mar. 2, 2001) (VA02-102)

VA01-103 (Mar. 2, 2001) (VA02-103)

West Virginia

WV01-01 (Mar. 2, 2001) (WV02-01)

WV01-02 (Mar. 2, 2001) (WV02-02)

WV01-03 (Mar. 2, 2001) (WV02-03)

WV01-04 (Mar. 2, 2001) (WV02-04)

WV01-05 (Mar. 2, 2001) (WV02-05)

WV01-06 (Mar. 2, 2001) (WV02-06)

WV01-07 (Mar. 2, 2001) (WV02-07)

WV01-08 (Mar. 2, 2001) (WV02-08)

WV01-09 (Mar. 2, 2001) (WV02-09)

WV01-10 (Mar. 2, 2001) (WV02-10)

WV01-11 (Mar. 2, 2001) (WV02-11)

Volume III

Alabama

AL01-01 (Mar. 2, 2001) (AL02-01)

AL01-02 (Mar. 2, 2001) (AL02-02)

AL01-03 (Mar. 2, 2001) (AL02-03)

AL01-04 (Mar. 2, 2001) (AL02-04)

AL01-05 (Mar. 2, 2001) (AL02-05)

AL01-06 (Mar. 2, 2001) (AL02-06)

AL01-07 (Mar. 2, 2001) (AL02-07)

AL01-08 (Mar. 2, 2001) (AL02-08)

AL01-09 (Mar. 2, 2001) (AL02-09)

AL01-10 (Mar. 2, 2001) (AL02-10)

AL01-11 (Mar. 2, 2001) (AL02-11)

AL01-12 (Mar. 2, 2001) (AL02-12)

AL01-13 (Mar. 2, 2001) (AL02-13)

AL01-14 (Mar. 2, 2001) (AL02-14)

AL01-15 (Mar. 2, 2001) (AL02-15)

AL01-16 (Mar. 2, 2001) (AL02-16)

AL01-17 (Mar. 2, 2001) (AL02-17)

AL01-18 (Mar. 2, 2001) (AL02-18)

AL01-19 (Mar. 2, 2001) (AL02-19)

AL01-20 (Mar. 2, 2001) (AL02-20)

AL01-21 (Mar. 2, 2001) (AL02-21)

AL01-22 (Mar. 2, 2001) (AL02-22)

AL01-23 (Mar. 2, 2001) (AL02-23)

AL01-24 (Mar. 2, 2001) (AL02-24)

AL01-25 (Mar. 2, 2001) (AL02-25)

AL01-26 (Mar. 2, 2001) (AL02-26)

AL01-27 (Mar. 2, 2001) (AL02-27)

AL01-28 (Mar. 2, 2001) (AL02-28)

AL01-29 (Mar. 2, 2001) (AL02-29)

AL01-30 (Mar. 2, 2001) (AL02-30)

AL01-31 (Mar. 2, 2001) (AL02-31)

AL01-32 (Mar. 2, 2001) (AL02-32)

AL01-33 (Mar. 2, 2001) (AL02-33)

AL01-34 (Mar. 2, 2001) (AL02-34)

AL01-35 (Mar. 2, 2001) (AL02-35)

AL01-36 (Mar. 2, 2001) (AL02-36)

AL01-37 (Mar. 2, 2001) (AL02-37)

AL01-38 (Mar. 2, 2001) (AL02-38)

AL01-39 (Mar. 2, 2001) (AL02-39)

AL01-40 (Mar. 2, 2001) (AL02-40)

AL01-41 (Mar. 2, 2001) (AL02-41)

AL01-42 (Mar. 2, 2001) (AL02-42)

AL01-43 (Mar. 2, 2001) (AL02-43)

AL01-44 (Mar. 2, 2001) (AL02-44)

AL01-45 (Mar. 2, 2001) (AL02-45)

AL01-46 (Mar. 2, 2001) (AL02-46)

AL01-47 (Mar. 2, 2001) (AL02-47)

AL01-48 (Mar. 2, 2001) (AL02-48)

AL01-49 (Mar. 2, 2001) (AL02-49)

AL01-50 (Mar. 2, 2001) (AL02-50)

AL01-51 (Mar. 2, 2001) (AL02-51)

AL01-52 (Mar. 2, 2001) (AL02-52)

AL01-53 (Mar. 2, 2001) (AL02-53)

AL01-54 (Mar. 2, 2001) (AL02-54)

AL01-55 (Mar. 2, 2001) (AL02-55)

Florida

FL01-01 (Mar. 2, 2001) (FL02-01)

FL01-02 (Mar. 2, 2001) (FL02-02)

FL01-03 (Mar. 2, 2001) (FL02-03)

FL01-04 (Mar. 2, 2001) (FL02-04)

FL01-05 (Mar. 2, 2001) (FL02-05)

FL01-06 (Mar. 2, 2001) (FL02-06)

FL01-07 (Mar. 2, 2001) (FL02-07)

FL01-08 (Mar. 2, 2001) (FL02-08)

FL01-09 (Mar. 2, 2001) (FL02-09)

FL01-10 (Mar. 2, 2001) (FL02-10)

FL01-11 (Mar. 2, 2001) (FL02-11)

FL01-12 (Mar. 2, 2001) (FL02-12)

FL01-13 (Mar. 2, 2001) (FL02-13)

FL01-14 (Mar. 2, 2001) (FL02-14)

FL01-15 (Mar. 2, 2001) (FL02-15)

FL01-16 (Mar. 2, 2001) (FL02-16)

FL01-17 (Mar. 2, 2001) (FL02-17)

FL01-18 (Mar. 2, 2001) (FL02-18)

FL01-19 (Mar. 2, 2001) (FL02-19)

FL01-20 (Mar. 2, 2001) (FL02-20)

FL01-21 (Mar. 2, 2001) (FL02-21)

FL01-22 (Mar. 2, 2001) (FL02-22)

FL01-23 (Mar. 2, 2001) (FL02-23)

FL01-24 (Mar. 2, 2001) (FL02-24)

FL01-25 (Mar. 2, 2001) (FL02-25)

FL01-26 (Mar. 2, 2001) (FL02-26)

FL01-27 (Mar. 2, 2001) (FL02-27)

FL01-28 (Mar. 2, 2001) (FL02-28)

FL01-29 (Mar. 2, 2001) (FL02-29)

FL01-30 (Mar. 2, 2001) (FL02-30)

FL01-31 (Mar. 2, 2001) (FL02-31)

FL01-32 (Mar. 2, 2001) (FL02-32)

FL01-33 (Mar. 2, 2001) (FL02-33)

FL01-34 (Mar. 2, 2001) (FL02-34)

FL01-35 (Mar. 2, 2001) (FL02-35)

FL01-36 (Mar. 2, 2001) (FL02-36)

FL01-37 (Mar. 2, 2001) (FL02-37)

FL01-38 (Mar. 2, 2001) (FL02-38)

FL01-39 (Mar. 2, 2001) (FL02-39)

FL01-40 (Mar. 2, 2001) (FL02-40)

FL01-41 (Mar. 2, 2001) (FL02-41)

FL01-42 (Mar. 2, 2001) (FL02-42)

FL01-43 (Mar. 2, 2001) (FL02-43)

FL01-44 (Mar. 2, 2001) (FL02-44)

FL01-45 (Mar. 2, 2001) (FL02-45)

FL01-46 (Mar. 2, 2001) (FL02-46)

FL01-47 (Mar. 2, 2001) (FL02-47)

FL01-48 (Mar. 2, 2001) (FL02-48)

FL01-49 (Mar. 2, 2001) (FL02-49)

FL01-50 (Mar. 2, 2001) (FL02-50)

FL01-51 (Mar. 2, 2001) (FL02-51)

FL01-52 (Mar. 2, 2001) (FL02-52)

FL01-53 (Mar. 2, 2001) (FL02-53)

FL01-54 (Mar. 2, 2001) (FL02-54)

FL01-55 (Mar. 2, 2001) (FL02-55)

FL01-56 (Mar. 2, 2001) (FL02-56)

FL01-57 (Mar. 2, 2001) (FL02-57)

FL01-58 (Mar. 2, 2001) (FL02-58)

FL01-59 (Mar. 2, 2001) (FL02-59)

FL01-60 (Mar. 2, 2001) (FL02-60)

FL01-61 (Mar. 2, 2001) (FL02-61)

FL01-62 (Mar. 2, 2001) (FL02-62)

FL01-63 (Mar. 2, 2001) (FL02-63)

FL01-64 (Mar. 2, 2001) (FL02-64)

FL01-65 (Mar. 2, 2001) (FL02-65)

FL01-66 (Mar. 2, 2001) (FL02-66)

FL01-67 (Mar. 2, 2001) (FL02-67)

FL01-68 (Mar. 2, 2001) (FL02-68)

FL01-69 (Mar. 2, 2001) (FL02-69)

FL01-70 (Mar. 2, 2001) (FL02-70)

FL01-71 (Mar. 2, 2001) (FL02-71)

FL01-72 (Mar. 2, 2001) (FL02-72)

FL01-73 (Mar. 2, 2001) (FL02-73)

FL01-74 (Mar. 2, 2001) (FL02-74)

FL01-75 (Mar. 2, 2001) (FL02-75)

FL01-76 (Mar. 2, 2001) (FL02-76)

FL01-77 (Mar. 2, 2001) (FL02-77)

FL01-78 (Mar. 2, 2001) (FL02-78)

FL01-79 (Mar. 2, 2001) (FL02-79)

FL01-80 (Mar. 2, 2001) (FL02-80)

FL01-81 (Mar. 2, 2001) (FL02-81)

FL01-82 (Mar. 2, 2001) (FL02-82)

FL01-83 (Mar. 2, 2001) (FL02-83)

FL01-84 (Mar. 2, 2001) (FL02-84)

FL01-85 (Mar. 2, 2001) (FL02-85)

FL01-86 (Mar. 2, 2001) (FL02-86)

FL01-87 (Mar. 2, 2001) (FL02-87)

FL01-88 (Mar. 2, 2001) (FL02-88)

FL01-89 (Mar. 2, 2001) (FL02-89)

FL01-90 (Mar. 2, 2001) (FL02-90)

FL01-91 (Mar. 2, 2001) (FL02-91)

FL01-92 (Mar. 2, 2001) (FL02-92)

FL01-93 (Mar. 2, 2001) (FL02-93)

FL01-94 (Mar. 2, 2001) (FL02-94)

FL01-95 (Mar. 2, 2001) (FL02-95)

FL01-96 (Mar. 2, 2001) (FL02-96)

FL01-97 (Mar. 2, 2001) (FL02-97)

FL01-98 (Mar. 2, 2001) (FL02-98)

FL01-99 (Mar. 2, 2001) (FL02-99)

FL01-100 (Mar. 2, 2001) (FL02-100)

FL01-101 (Mar. 2, 2001) (FL02-101)

FL01-102 (Mar. 2, 2001) (FL02-102)

FL01-103 (Mar. 2, 2001) (FL02-103)

FL01-104 (Mar. 2, 2001) (FL02-104)

Georgia

GA01-01 (Mar. 2, 2001) (GA02-01)

GA01-02 (Mar. 2, 2001) (GA02-02)

GA01-03 (Mar. 2, 2001) (GA02-03)

GA01-04 (Mar. 2, 2001) (GA02-04)

GA01-05 (Mar. 2, 2001) (GA02-05)

GA01-06 (Mar. 2, 2001) (GA02-06)

GA01-07 (Mar. 2, 2001) (GA02-07)

GA01-08 (Mar. 2, 2001) (GA02-08)

GA01-09 (Mar. 2, 2001) (GA02-09)

GA01-10 (Mar. 2, 2001) (GA02-10)

GA01-11 (Mar. 2, 2001) (GA02-11)

GA01-12 (Mar. 2, 2001) (GA02-12)

GA01-13 (Mar. 2, 2001) (GA02-13)

GA01-14 (Mar. 2, 2001) (GA02-14)

GA01-15 (Mar. 2, 2001) (GA02-15)

GA01-16 (Mar. 2, 2001) (GA02-16)

GA01-17 (Mar. 2, 2001) (GA02-17)

GA01-18 (Mar. 2, 2001) (GA02-18)

GA01-19 (Mar. 2, 2001) (GA02-19)

GA01-20 (Mar. 2, 2001) (GA02-20)

GA01-21 (Mar. 2, 2001) (GA02-21)

GA01-22 (Mar. 2, 2001) (GA02-22)

GA01-23 (Mar. 2, 2001) (GA02-23)

GA01-24 (Mar. 2, 2001) (GA02-24)

GA01-25 (Mar. 2, 2001) (GA02-25)

GA01-26 (Mar. 2, 2001) (GA02-26)

GA01-27 (Mar. 2, 2001) (GA02-27)

GA01-28 (Mar. 2, 2001) (GA02-28)

GA01-29 (Mar. 2, 2001) (GA02-29)

GA01-30 (Mar. 2, 2001) (GA02-30)

GA01-31 (Mar. 2, 2001) (GA02-31)

GA01-32 (Mar. 2, 2001) (GA02-32)

GA01-33 (Mar. 2, 2001) (GA02-33)

GA01-34 (Mar. 2, 2001) (GA02-34)

GA01-35 (Mar. 2, 2001) (GA02-35)

GA01-36 (Mar. 2, 2001) (GA02-36)

GA01-37 (Mar. 2, 2001) (GA02-37)

GA01-38 (Mar. 2, 2001) (GA02-38)

GA01-39 (Mar. 2, 2001) (GA02-39)

GA01-40 (Mar. 2, 2001) (GA02-40)

GA01-41 (Mar. 2, 2001) (GA02-41)

GA01-42 (Mar. 2, 2001) (GA02-42)

GA01-43 (Mar. 2, 2001) (GA02-43)

GA01-44 (Mar. 2, 2001) (GA02-44)

GA01-45 (Mar. 2, 2001) (GA02-45)

GA01-46 (Mar. 2, 2001) (GA02-46)

GA01-47 (Mar. 2, 2001) (GA02-47)

GA01-48 (Mar. 2, 2001) (GA02-48)

GA01-49 (Mar. 2, 2001) (GA02-49)

GA01-50 (Mar. 2, 2001) (GA02-50)

GA01-51 (Mar. 2, 2001) (GA02-51)

GA01-52 (Mar. 2, 2001) (GA02-52)

GA01-53 (Mar. 2, 2001) (GA02-53)

GA01-54 (Mar. 2, 2001) (GA02-54)

GA01-55 (Mar. 2, 2001) (GA02-55)

GA01-56 (Mar. 2, 2001) (GA02-56)

GA01-57 (Mar. 2, 2001) (GA02-57)

GA01-58 (Mar. 2, 2001) (GA02-58)

GA01-59 (Mar. 2, 2001) (GA02-59)

GA01-60 (Mar. 2, 2001) (GA02-60)

GA01-61 (Mar. 2, 2001) (GA02-61)

GA01-62 (Mar. 2, 2001) (GA02-62)

GA01-63 (Mar. 2, 2001) (GA02-63)

GA01-64 (Mar. 2, 2001) (GA02-64)

GA01-65 (Mar. 2, 2001) (GA02-65)

GA01-66 (Mar. 2, 2001) (GA02-66)

GA01-67 (Mar. 2, 2001) (GA02-67)

GA01-68 (Mar. 2, 2001) (GA02-68)

GA01-69 (Mar. 2, 2001) (GA02-69)

GA01-70 (Mar. 2, 2001) (GA02-70)

GA01-71 (Mar. 2, 2001) (GA02-71)

GA01-72 (Mar. 2, 2001) (GA02-72)

GA01-73 (Mar. 2, 2001) (GA02-73)

GA01-74 (Mar. 2, 2001) (GA02-74)

GA01-75 (Mar. 2, 2001) (GA02-75)

GA01-76 (Mar. 2, 2001) (GA02-76)

GA01-77 (Mar. 2, 2001) (GA02-77)

GA01-78 (Mar. 2, 2001) (GA02-78)

GA01-79 (Mar. 2, 2001) (GA02-79)

GA01-80 (Mar. 2, 2001) (GA02-80)

GA01-81 (Mar. 2, 2001) (GA02-81)

GA01-82 (Mar. 2, 2001) (GA02-82)

GA01-83 (Mar. 2, 2001) (GA02-83)

GA01-84 (Mar. 2, 2001) (GA02-84)

GA01-85 (Mar. 2, 2001) (GA02-85)

GA01-86 (Mar. 2, 2001) (GA02-86)

GA01-87 (Mar. 2, 2001) (GA02-87)

GA01-88 (Mar. 2, 2001) (GA02-88)

Kentucky

KY01-01 (Mar. 2, 2001) (KY02-01)

KY01-02 (Mar. 2, 2001) (KY02-02)

KY01-03 (Mar. 2, 2001) (KY02-03)

KY01-04 (Mar. 2, 2001) (KY02-04)

KY01-05 (Mar. 2, 2001) (KY02-05)

KY01-06 (Mar. 2, 2001) (KY02-06)

KY01-07 (Mar. 2, 2001) (KY02-07)

KY01-08 (Mar. 2, 2001) (KY02-08)

KY01-09 (Mar. 2, 2001) (KY02-09)

KY01-10 (Mar. 2, 2001) (KY02-10)

KY01-11 (Mar. 2, 2001) (KY02-11)

KY01-12 (Mar. 2, 2001) (KY02-12)

KY01-13 (Mar. 2, 2001) (KY02-13)

KY01-14 (Mar. 2, 2001) (KY02-14)

KY01-15 (Mar. 2, 2001) (KY02-15)

KY01-16 (Mar. 2, 2001) (KY02-16)

KY01-17 (Mar. 2, 2001) (KY02-17)

KY01-18 (Mar. 2, 2001) (KY02-18)

KY01-19 (Mar. 2, 2001) (KY02-19)

KY01-20 (Mar. 2, 2001) (KY02-20)

KY01-21 (Mar. 2, 2001) (KY02-21)

KY01-22 (Mar. 2, 2001) (KY02-22)

KY01-23 (Mar. 2, 2001) (KY02-23)

KY01-24 (Mar. 2, 2001) (KY02-24)

KY01-25 (Mar. 2, 2001) (KY02-25)

KY01-26 (Mar. 2, 2001) (KY02-26)

KY01-27 (Mar. 2, 2001) (KY02-27)

KY01-28 (Mar. 2, 2001) (KY02-28)

KY01-29 (Mar. 2, 2001) (KY02-29)

KY01-30 (Mar. 2, 2001) (KY02-30)

KY01-31 (Mar. 2, 2001) (KY02-31)

KY01-32 (Mar. 2, 2001) (KY02-32)

KY01-33 (Mar. 2, 2001) (KY02-33)

KY01-34 (Mar. 2, 2001) (KY02-34)

KY01-35 (Mar. 2, 2001) (KY02-35)

KY01-36 (Mar. 2, 2001) (KY02-36)

KY01-37 (Mar. 2, 2001) (KY02-37)

KY01-38 (Mar. 2, 2001) (KY02-38)

KY01-39 (Mar. 2, 2001) (KY02-39)

KY01-40 (Mar. 2, 2001) (KY02-40)

KY01-41 (Mar. 2, 2001) (KY02-41)

KY01-42 (Mar. 2, 2001) (KY02-42)

KY01-43 (Mar. 2, 2001) (KY02-43)

KY01-44 (Mar. 2, 2001) (KY02-44)

KY01-45 (Mar. 2, 2001) (KY02-45)

KY01-46 (Mar. 2, 2001) (KY02-46)

KY01-47 (Mar. 2, 2001) (KY02-47)

KY01-48 (Mar. 2, 2001) (KY02-48)

KY01-49 (Mar. 2, 2001) (KY02-49)

KY01-50 (Mar. 2, 2001) (KY02-50)

KY01-51 (Mar. 2, 2001) (KY02-51)

KY01-52 (Mar. 2, 2001) (KY02-52)

KY01-53 (Mar. 2, 2001) (KY02-53)

Mississippi

MS01-01 (Mar. 2, 2001) (MS02-01)

MS01-02 (Mar. 2, 2001) (MS02-02)

MS01-03 (Mar. 2, 2001) (MS02-03)

MS01-04 (Mar. 2, 2001) (MS02-04)

MS01-05 (Mar. 2, 2001) (MS02-05)

MS01-06 (Mar. 2, 2001) (MS02-06)

MS01-07 (Mar. 2, 2001) (MS02-07)

MS01-08 (Mar. 2, 2001) (MS02-08)

MS01-09 (Mar. 2, 2001) (MS02-09)

MS01-10 (Mar. 2, 2001) (MS02-10)

MS01-11 (Mar. 2, 2001) (MS02-11)

MS01-12 (Mar. 2, 2001) (MS02-12)

MS01-13 (Mar. 2, 2001) (MS02-13)

MS01-14 (Mar. 2, 2001) (MS02-14)

MS01-15 (Mar. 2, 2001) (MS02-15)

MS01-16 (Mar. 2, 2001) (MS02-16)

MS01-17 (Mar. 2, 2001) (MS02-17)

MS01-18 (Mar. 2, 2001) (MS02-18)

MS01-19 (Mar. 2, 2001) (MS02-19)

MS01-20 (Mar. 2, 2001) (MS02-20)

MS01-21 (Mar. 2, 2001) (MS02-21)

MS01-22 (Mar. 2, 2001) (MS02-22)

MS01-23 (Mar. 2, 2001) (MS02-23)

MS01-24 (Mar. 2, 2001) (MS02-24)

MS01-25 (Mar. 2, 2001) (MS02-25)

MS01-26 (Mar. 2, 2001) (MS02-26)

MS01-27 (Mar. 2, 2001) (MS02-27)

MS01-28 (Mar. 2, 2001) (MS02-28)

MS01-29 (Mar. 2, 2001) (MS02-29)

MS01-30 (Mar. 2, 2001) (MS02-30)

MS01-31 (Mar. 2, 2001) (MS02-31)

MS01-32 (Mar. 2, 2001) (MS02-32)

MS01-33 (Mar. 2, 2001) (MS02-33)

MS01-34 (Mar. 2, 2001) (MS02-34)

MS01-35 (Mar. 2, 2001) (MS02-35)

MS01-36 (Mar. 2, 2001) (MS02-36)

MS01-37 (Mar. 2, 2001) (MS02-37)

MS01-38 (Mar. 2, 2001) (MS02-38)

MS01-39 (Mar. 2, 2001) (MS02-39)

MS01-40 (Mar. 2, 2001) (MS02-40)

MS01-41 (Mar. 2, 2001) (MS02-41)

MS01-42 (Mar. 2, 2001) (MS02-42)

MS01-43 (Mar. 2, 2001) (MS02-43)

MS01-44 (Mar. 2, 2001) (MS02-44)

MS01-45 (Mar. 2, 2001) (MS02-45)

MS01-46 (Mar. 2, 2001) (MS02-46)

MS01-47 (Mar. 2, 2001) (MS02-47)

MS01-48 (Mar. 2, 2001) (MS02-48)

MS01-49 (Mar. 2, 2001) (MS02-49)

MS01-50 (Mar. 2, 2001) (MS02-50)

MS01-51 (Mar. 2, 2001) (MS02-51)

MS01-52 (Mar. 2, 2001) (MS02-52)

MS01-53 (Mar. 2, 2001) (MS02-53)

MS01-54 (Mar. 2, 2001) (MS02-54)

MS01-55 (Mar. 2, 2001) (MS02-55)

MS01-56 (Mar. 2, 2001) (MS02-56)

MS01-57 (Mar. 2, 2001) (MS02-57)

North Carolina

NC01-01 (Mar. 2, 2001) (NC02-01)

NC01-02 (Mar. 2, 2001) (NC02-02)

NC01-03 (Mar. 2, 2001) (NC02-03)

NC01-04 (Mar. 2, 2001) (NC02-04)

NC01-05 (Mar. 2, 2001) (NC02-05)

NC01-06 (Mar. 2, 2001) (NC02-06)

NC01-07 (Mar. 2, 2001) (NC02-07)

NC01-08 (Mar. 2, 2001) (NC02-08)

NC01-09 (Mar. 2, 2001) (NC02-09)

NC01-10 (Mar. 2, 2001) (NC02-10)

NC01-11 (Mar. 2, 2001) (NC02-11)

NC01-12 (Mar. 2, 2001) (NC02-12)

NC01-13 (Mar. 2, 2001) (NC02-13)

NC01-14 (Mar. 2, 2001) (NC02-14)

NC01-15 (Mar. 2, 2001) (NC02-15)

NC01-16 (Mar. 2, 2001) (NC02-16)

NC01-17 (Mar. 2, 2001) (NC02-17)

NC01-18 (Mar. 2, 2001) (NC02-18)

NC01-19 (Mar. 2, 2001) (NC02-19)

NC01-20 (Mar. 2, 2001) (NC02-20)

NC01-21 (Mar. 2, 2001) (NC02-21)

NC01-22 (Mar. 2, 2001) (NC02-22)

NC01-23 (Mar. 2, 2001) (NC02-23)

NC01-24 (Mar. 2, 2001) (NC02-24)

NC01-25 (Mar. 2, 2001) (NC02-25)

NC01-26 (Mar. 2, 2001) (NC02-26)

NC01-27 (Mar. 2, 2001) (NC02-27)

NC01-28 (Mar. 2, 2001) (NC02-28)

NC01-29 (Mar. 2, 2001) (NC02-29)

NC01-30 (Mar. 2, 2001) (NC02-30)

NC01-31 (Mar. 2, 2001) (NC02-31)

NC01-32 (Mar. 2, 2001) (NC02-32)

NC01-33 (Mar. 2, 2001) (NC02-33)

NC01-34 (Mar. 2, 2001) (NC02-34)

NC01-35 (Mar. 2, 2001) (NC02-35)

NC01-36 (Mar. 2, 2001) (NC02-36)

NC01-37 (Mar. 2, 2001) (NC02-37)

NC01-38 (Mar. 2, 2001) (NC02-38)

NC01-39 (Mar. 2, 2001) (NC02-39)

NC01-40 (Mar. 2, 2001) (NC02-40)

NC01-41 (Mar. 2, 2001) (NC02-41)

NC01-42 (Mar. 2, 2001) (NC02-42)

NC01-43 (Mar. 2, 2001) (NC02-43)

NC01-44 (Mar. 2, 2001) (NC02-44)

NC01-45 (Mar. 2, 2001) (NC02-45)

NC01-46 (Mar. 2, 2001) (NC02-46)

NC01-47 (Mar. 2, 2001) (NC02-47)

NC01-48 (Mar. 2, 2001) (NC02-48)

NC01-49 (Mar. 2, 2001) (NC02-49)

NC01-50 (Mar. 2, 2001) (NC02-50)

NC01-51 (Mar. 2, 2001) (NC02-51)

NC01-52 (Mar. 2, 2001) (NC02-52)

NC01-53 (Mar. 2, 2001) (NC02-53)

NC01-54 (Mar. 2, 2001) (NC02-54)

NC01-55 (Mar. 2, 2001) (NC02-55)

NC01-56 (Nov. 16, 2001) (NC02-56)

South Carolina

SC01-01 (Mar. 2, 2001) (SC02-01)

SC01-01 (Mar. 2, 2001) (SC02-01)

SC01-02 (Mar. 2, 2001) (SC02-02)

SC01-03 (Mar. 2, 2001) (SC02-03)

SC01-04 (Mar. 2, 2001) (SC02-04)

SC01-05 (Mar. 2, 2001) (SC02-05)

SC01-06 (Mar. 2, 2001) (SC02-06)

SC01-07 (Mar. 2, 2001) (SC02-07)

SC01-08 (Mar. 2, 2001) (SC02-08)

SC01-09 (Mar. 2, 2001) (SC02-09)

SC01-10 (Mar. 2, 2001) (SC02-10)

SC01-11 (Mar. 2, 2001) (SC02-11)

SC01-12 (Mar. 2, 2001) (SC02-12)

SC01-13 (Mar. 2, 2001) (SC02-13)

SC01-14 (Mar. 2, 2001) (SC02-14)

SC01-15 (Mar. 2, 2001) (SC02-15)

SC01-16 (Mar. 2, 2001) (SC02-16)

SC01-17 (Mar. 2, 2001) (SC02-17)

SC01-18 (Mar. 2, 2001) (SC02-18)

SC01-19 (Mar. 2, 2001) (SC02-19)

SC01-20 (Mar. 2, 2001) (SC02-20)

SC01-21 (Mar. 2, 2001) (SC02-21)

SC01-22 (Mar. 2, 2001) (SC02-22)

SC01-23 (Mar. 2, 2001) (SC02-23)

SC01-24 (Mar. 2, 2001) (SC02-24)

SC01-25 (Mar. 2, 2001) (SC02-25)

SC01-26 (Mar. 2, 2001) (SC02-26)

SC01-27 (Mar. 2, 2001) (SC02-27)

SC01-28 (Mar. 2, 2001) (SC02-28)

SC01-29 (Mar. 2, 2001) (SC02-29)

SC01-30 (Mar. 2, 2001) (SC02-30)

SC01-31 (Mar. 2, 2001) (SC02-31)

SC01-32 (Mar. 2, 2001) (SC02-32)

SC01-33 (Mar. 2, 2001) (SC02-33)

SC01-34 (Mar. 2, 2001) (SC02-34)

SC01-35 (Mar. 2, 2001) (SC02-35)

SC01-36 (Mar. 2, 2001) (SC02-36)

SC01-37 (Mar. 2, 2001) (SC02-37)

Tennessee

TN01-01 (Mar. 2, 2001) (TN02-01)

TN01-02 (Mar. 2, 2001) (TN02-02)

TN01-03 (Mar. 2, 2001) (TN02-03)

TN01-04 (Mar. 2, 2001) (TN02-04)

TN01-05 (Mar. 2, 2001) (TN02-05)

TN01-06 (Mar. 2, 2001) (TN02-06)

TN01-07 (Mar. 2, 2001) (TN02-07)

TN01-08 (Mar. 2, 2001) (TN02-08)

TN01-09 (Mar. 2, 2001) (TN02-09)

TN01-10 (Mar. 2, 2001) (TN02-10)

TN01-11 (Mar. 2, 2001) (TN02-11)

TN01-12 (Mar. 2, 2001) (TN02-12)

TN01-13 (Mar. 2, 2001) (TN02-13)

TN01-14 (Mar. 2, 2001) (TN02-14)

TN01-15 (Mar. 2, 2001) (TN02-15)

TN01-16 (Mar. 2, 2001) (TN02-16)

TN01-17 (Mar. 2, 2001) (TN02-17)

TN01-18 (Mar. 2, 2001) (TN02-18)

TN01-19 (Mar. 2, 2001) (TN02-19)

TN01-20 (Mar. 2, 2001) (TN02-20)

TN01-21 (Mar. 2, 2001) (TN02-21)

TN01-22 (Mar. 2, 2001) (TN02-22)

TN01-23 (Mar. 2, 2001) (TN02-23)

TN01-24 (Mar. 2, 2001) (TN02-24)

TN01-25 (Mar. 2, 2001) (TN02-25)

TN01-26 (Mar. 2, 2001) (TN02-26)

TN01-27 (Mar. 2, 2001) (TN02-27)

TN01-28 (Mar. 2, 2001) (TN02-28)

TN01-29 (Mar. 2, 2001) (TN02-29)

TN01-30 (Mar. 2, 2001) (TN02-30)

TN01-31 (Mar. 2, 2001) (TN02-31)

TN01-32 (Mar. 2, 2001) (TN02-32)

TN01-33 (Mar. 2, 2001) (TN02-33)

TN01-34 (Mar. 2, 2001) (TN02-34)

TN01-35 (Mar. 2, 2001) (TN02-35)

TN01-36 (Mar. 2, 2001) (TN02-36)

TN01-37 (Mar. 2, 2001) (TN02-37)

TN01-38 (Mar. 2, 2001) (TN02-38)

TN01-39 (Mar. 2, 2001) (TN02-39)

TN01-40 (Mar. 2, 2001) (TN02-40)

TN01-41 (Mar. 2, 2001) (TN02-41)

TN01-42 (Mar. 2, 2001) (TN02-42)

TN01-43 (Mar. 2, 2001) (TN02-43)

TN01-44 (Mar. 2, 2001) (TN02-44)

TN01-45 (Mar. 2, 2001) (TN02-45)

TN01-46 (Mar. 2, 2001) (TN02-46)

TN01-47 (Mar. 2, 2001) (TN02-47)

TN01-48 (Mar. 2, 2001) (TN02-48)

TN01-49 (Mar. 2, 2001) (TN02-49)

TN01-50 (Mar. 2, 2001) (TN02-50)

TN01-51 (Mar. 2, 2001) (TN02-51)

TN01-52 (Mar. 2, 2001) (TN02-52)

TN01-53 (Mar. 2, 2001) (TN02-53)

TN01-54 (Mar. 2, 2001) (TN02-54)

TN01-55 (Mar. 2, 2001) (TN02-55)

TN01-56 (Mar. 2, 2001) (TN02-56)

TN01-57 (Mar. 2, 2001) (TN02-57)

TN01-58 (Mar. 2, 2001) (TN02-58)

TN01-59 (Mar. 2, 2001) (TN02-59)

TN01-60 (Mar. 2, 2001) (TN02-60)

TN01-61 (Mar. 2, 2001) (TN02-61)

TN01-62 (Mar. 2, 2001) (TN02-62)

TN01-63 (Mar. 2, 2001) (TN02-63)

TN01-64 (Mar. 2, 2001) (TN02-64)

TN01-65 (Mar. 2, 2001) (TN02-65)

Volume IV

Illinois

IL01-01 (Mar 2, 2001) (IL02-01)

IL01-02 (Mar 2, 2001) (IL02-02)

IL01-03 (Mar 2, 2001) (IL02-03)

IL01-04 (Mar 2, 2001) (IL02-04)

IL01-05 (Mar 2, 2001) (IL02-05)

IL01-06 (Mar 2, 2001) (IL02-06)

IL01-07 (Mar 2, 2001) (IL02-07)

IL01-08 (Mar 2, 2001) (IL02-08)

IL01-09 (Mar 2, 2001) (IL02-09)

IL01-10 (Mar 2, 2001) (IL02-10)

IL01-11 (Mar 2, 2001) (IL02-11)

IL01-12 (Mar 2, 2001) (IL02-12)

IL01-13 (Mar 2, 2001) (IL02-13)

IL01-14 (Mar 2, 2001) (IL02-14)

IL01-15 (Mar 2, 2001) (IL02-15)

IL01-16 (Mar 2, 2001) (IL02-16)

IL01-17 (Mar 2, 2001) (IL02-17)

IL01-18 (Mar 2, 2001) (IL02-18)

IL01-19 (Mar 2, 2001) (IL02-19)

IL01-20 (Mar 2, 2001) (IL02-20)

IL01-21 (Mar 2, 2001) (IL02-21)

IL01-22 (Mar 2, 2001) (IL02-22)

IL01-23 (Mar 2, 2001) (IL02-23)

IL01-24 (Mar 2, 2001) (IL02-24)

IL01-25 (Mar 2, 2001) (IL02-25)

IL01-26 (Mar 2, 2001) (IL02-26)

IL01-27 (Mar 2, 2001) (IL02-27)

IL01-28 (Mar 2, 2001) (IL02-28)

IL01-29 (Mar 2, 2001) (IL02-29)

IL01-30 (Mar 2, 2001) (IL02-30)

IL01-31 (Mar 2, 2001) (IL02-31)

IL01-32 (Mar 2, 2001) (IL02-32)

IL01-33 (Mar 2, 2001) (IL02-33)

IL01-34 (Mar 2, 2001) (IL02-34)

IL01-35 (Mar 2, 2001) (IL02-35)

IL01-36 (Mar 2, 2001) (IL02-36)

IL01-37 (Mar 2, 2001) (IL02-37)

IL01-38 (Mar 2, 2001) (IL02-38)

IL01-39 (Mar 2, 2001) (IL02-39)

IL01-40 (Mar 2, 2001) (IL02-40)

IL01-41 (Mar 2, 2001) (IL02-41)

IL01-42 (Mar 2, 2001) (IL02-42)

IL01-43 (Mar 2, 2001) (IL02-43)

IL01-44 (Mar 2, 2001) (IL02-44)

IL01-45 (Mar 2, 2001) (IL02-45)

IL01-46 (Mar 2, 2001) (IL02-46)

IL01-47 (Mar 2, 2001) (IL02-47)

IL01-48 (Mar 2, 2001) (IL02-48)

IL01-49 (Mar 2, 2001) (IL02-49)

IL01-50 (Mar 2, 2001) (IL02-50)

IL01-51 (Mar 2, 2001) (IL02-51)

IL01-52 (Mar 2, 2001) (IL02-52)

IL01-53 (Mar 2, 2001) (IL02-53)

IL01-54 (Mar 2, 2001) (IL02-54)

IL01-55 (Mar 2, 2001) (IL02-55)

IL01-56 (Mar 2, 2001) (IL02-56)

IL01-57 (Mar 2, 2001) (IL02-57)

IL01-58 (Mar 2, 2001) (IL02-58)

IL01-59 (Mar 2, 2001) (IL02-59)

IL01-60 (Mar 2, 2001) (IL02-60)

IL01-61 (Mar 2, 2001) (IL02-61)

IL01-62 (Mar 2, 2001) (IL02-62)

IL01-63 (Mar 2, 2001) (IL02-63)

IL01-64 (Mar 2, 2001) (IL02-64)

IL01-65 (Mar 2, 2001) (IL02-65)

IL01-66 (Mar 2, 2001) (IL02-66)

IL01-67 (Mar 2, 2001) (IL02-67)

IL01-68 (Mar 2, 2001) (IL02-68)

IL01-69 (Mar 2, 2001) (IL02-69)

IL01-70 (Mar 2, 2001) (IL02-70)

Indiana

IN01-01 (Mar 2, 2001) (IN02-01)

IN01-02 (Mar 2, 2001) (IN02-02)

IN01-03 (Mar 2, 2001) (IN02-03)

IN01-04 (Mar 2, 2001) (IN02-04)

IN01-05 (Mar 2, 2001) (IN02-05)

IN01-06 (Mar 2, 2001) (IN02-06)

IN01-07 (Mar 2, 2001) (IN02-07)

IN01-08 (Mar 2, 2001) (IN02-08)

IN01-09 (Mar 2, 2001) (IN02-09)

IN01-10 (Mar 2, 2001) (IN02-10)

IN01-11 (Mar 2, 2001) (IN02-11)

IN01-12 (Mar 2, 2001) (IN02-12)

IN01-13 (Mar 2, 2001) (IN02-13)

IN01-14 (Mar 2, 2001) (IN02-14)

IN01-15 (Mar 2, 2001) (IN02-15)

IN01-16 (Mar 2, 2001) (IN02-16)

IN01-17 (Mar 2, 2001) (IN02-17)

IN01-18 (Mar 2, 2001) (IN02-18)

IN01-19 (Mar 2, 2001) (IN02-19)

IN01-20 (Mar 2, 2001) (IN02-20)

IN01-21 (Mar 2, 2001) (IN02-21)

Michigan

MI01-01 (Mar. 2, 2001) (MI02-01)

MI01-02 (Mar. 2, 2001) (MI02-02)

MI01-03 (Mar. 2, 2001) (MI02-03)

MI01-04 (Mar. 2, 2001) (MI02-04)

MI01-05 (Mar. 2, 2001) (MI02-05)

MI01-06 (Mar. 2, 2001) (MI02-06)

MI01-07 (Mar. 2, 2001) (MI02-07)

MI01-08 (Mar. 2, 2001) (MI02-08)

MI01-09 (Mar. 2, 2001) (MI02-09)

MI01-10 (Mar. 2, 2001) (MI02-10)

MI01-11 (Mar. 2, 2001) (MI02-11)

MI01-12 (Mar. 2, 2001) (MI02-12)

MI01-13 (Mar. 2, 2001) (MI02-13)

MI01-14 (Mar. 2, 2001) (MI02-14)

MI01-15 (Mar. 2, 2001) (MI02-15)

MI01-16 (Mar. 2, 2001) (MI02-16)

MI01-17 (Mar. 2, 2001) (MI02-17)

MI01-18 (Mar. 2, 2001) (MI02-18)

MI01-19 (Mar. 2, 2001) (MI02-19)

MI01-20 (Mar. 2, 2001) (MI02-20)

MI01-21 (Mar. 2, 2001) (MI02-21)

MI01-22 (Mar. 2, 2001) (MI02-22)

MI01-23 (Mar. 2, 2001) (MI02-23)

MI01-24 (Mar. 2, 2001) (MI02-24)

MI01-25 (Mar. 2, 2001) (MI02-25)

MI01-26 (Mar. 2, 2001) (MI02-26)

MI01-27 (Mar. 2, 2001) (MI02-27)

MI01-28 (Mar. 2, 2001) (MI02-28)

MI01-29 (Mar. 2, 2001) (MI02-29)

MI01-30 (Mar. 2, 2001) (MI02-30)

MI01-31 (Mar. 2, 2001) (MI02-31)

MI01-32 (Mar. 2, 2001) (MI02-32)

MI01-33 (Mar. 2, 2001) (MI02-33)

MI01-34 (Mar. 2, 2001) (MI02-34)

MI01-35 (Mar. 2, 2001) (MI02-35)

MI01-36 (Mar. 2, 2001) (MI02-36)

MI01-37 (Mar. 2, 2001) (MI02-37)

MI01-38 (Mar. 2, 2001) (MI02-38)

MI01-39 (Mar. 2, 2001) (MI02-39)

MI01-40 (Mar. 2, 2001) (MI02-40)

MI01-41 (Mar. 2, 2001) (MI02-41)

MI01-42 (Mar. 2, 2001) (MI02-42)

MI01-43 (Mar. 2, 2001) (MI02-43)

MI01-44 (Mar. 2, 2001) (MI02-44)

MI01-45 (Mar. 2, 2001) (MI02-45)

MI01-46 (Mar. 2, 2001) (MI02-46)

MI01-47 (Mar. 2, 2001) (MI02-47)

MI01-48 (Mar. 2, 2001) (MI02-48)

MI01-49 (Mar. 2, 2001) (MI02-49)

MI01-50 (Mar. 2, 2001) (MI02-50)

MI01-51 (Mar. 2, 2001) (MI02-51)

MI01-52 (Mar. 2, 2001) (MI02-52)

MI01-53 (Mar. 2, 2001) (MI02-53)

MI01-54 (Mar. 2, 2001) (MI02-54)

MI01-55 (Mar. 2, 2001) (MI02-55)

MI01-56 (Mar. 2, 2001) (MI02-56)

MI01-57 (Mar. 2, 2001) (MI02-57)

MI01-58 (Mar. 2, 2001) (MI02-58)

MI01-59 (Mar. 2, 2001) (MI02-59)

MI01-60 (Mar. 2, 2001) (MI02-60)

MI01-61 (Mar. 2, 2001) (MI02-61)

MI01-62 (Mar. 2, 2001) (MI02-62)

MI01-63 (Mar. 2, 2001) (MI02-63)

MI01-64 (Mar. 2, 2001) (MI02-64)

MI01-65 (Mar. 2, 2001) (MI02-65)

MI01-66 (Mar. 2, 2001) (MI02-66)

MI01-67 (Mar. 2, 2001) (MI02-67)

MI01-68 (Mar. 2, 2001) (MI02-68)

MI01-69 (Mar. 2, 2001) (MI02-69)

MI01-70 (Mar. 2, 2001) (MI02-70)

MI01-71 (Mar. 2, 2001) (MI02-71)

MI01-72 (Mar. 2, 2001) (MI02-72)

MI01-73 (Mar. 2, 2001) (MI02-73)

MI01-74 (Mar. 2, 2001) (MI02-74)

MI01-75 (Mar. 2, 2001) (MI02-75)

MI01-76 (Mar. 2, 2001) (MI02-76)

MI01-77 (Mar. 2, 2001) (MI02-77)

MI01-78 (Mar. 2, 2001) (MI02-78)

MI01-79 (Mar. 2, 2001) (MI02-79)

MI01-80 (Mar. 2, 2001) (MI02-80)

MI01-81 (Mar. 2, 2001) (MI02-81)

MI01-82 (Mar. 2, 2001) (MI02-82)

MI01-83 (Mar. 2, 2001) (MI02-83)

MI01-84 (Mar. 2, 2001) (MI02-84)

MI01-85 (Mar. 2, 2001) (MI02-85)

MI01-86 (Mar. 2, 2001) (MI02-86)

MI01-87 (Mar. 2, 2001) (MI02-87)

MI01-88 (Mar. 2, 2001) (MI02-88)

MI01-89 (Mar. 2, 2001) (MI02-89)

MI01-90 (Mar. 2, 2001) (MI02-90)

MI01-91 (Mar. 2, 2001) (MI02-91)

MI01-92 (Mar. 2, 2001) (MI02-92)

MI01-93 (Mar. 2, 2001) (MI02-93)

MI01-94 (Mar. 2, 2001) (MI02-94)

MI01-95 (Mar. 2, 2001) (MI02-95)

MI01-96 (Mar. 2, 2001) (MI02-96)

MI01-97 (Mar. 2, 2001) (MI02-97)

MI01-98 (Mar. 2, 2001) (MI02-98)

MI01-99 (Mar. 2, 2001) (MI02-99)

MI01-100 (Mar. 2, 2001) (MI02-100)

MI01-101 (Mar. 2, 2001) (MI02-101)

MI01-102 (Mar. 2, 2001) (MI02-102)

MI01-103 (Mar. 2, 2001) (MI02-103)

MI01-104 (Mar. 2, 2001) (MI02-104)

MI01-105 (Mar. 2, 2001) (MI02-105)

MI01-106 (Mar. 2, 2001) (MI02-106)

Minnesota

MN01-01 (Mar. 2, 2001) (MN02-01)

MN01-01 (Mar. 2, 2001) (MN02-02)

MN01-03 (Mar. 2, 2001) (MN02-03)

MN01-04 (Mar. 2, 2001) (MN02-04)

MN01-05 (Mar. 2, 2001) (MN02-05)

MN01-06 (Mar. 2, 2001) (MN02-06)

MN01-07 (Mar. 2, 2001) (MN02-07)

MN01-08 (Mar. 2, 2001) (MN02-08)

MN01-09 (Mar. 2, 2001) (MN02-09)

MN01-10 (Mar. 2, 2001) (MN02-10)

MN01-11 (Mar. 2, 2001) (MN02-11)

MN01-12 (Mar. 2, 2001) (MN02-12)

MN01-13 (Mar. 2, 2001) (MN02-13)

MN01-14 (Mar. 2, 2001) (MN02-14)

MN01-15 (Mar. 2, 2001) (MN02-15)

MN01-16 (Mar. 2, 2001) (MN02-16)

MN01-17 (Mar. 2, 2001) (MN02-17)

MN01-18 (Mar. 2, 2001) (MN02-18)

MN01-19 (Mar. 2, 2001) (MN02-19)

MN01-20 (Mar. 2, 2001) (MN02-20)

MN01-21 (Mar. 2, 2001) (MN02-21)

MN01-22 (Mar. 2, 2001) (MN02-22)

MN01-23 (Mar. 2, 2001) (MN02-23)

MN01-24 (Mar. 2, 2001) (MN02-24)

MN01-25 (Mar. 2, 2001) (MN02-25)

MN01-26 (Mar. 2, 2001) (MN02-26)

MN01-27 (Mar. 2, 2001) (MN02-27)

MN01-28 (Mar. 2, 2001) (MN02-28)

MN01-29 (Mar. 2, 2001) (MN02-29)

MN01-30 (Mar. 2, 2001) (MN02-30)

MN01-31 (Mar. 2, 2001) (MN02-31)

MN01-32 (Mar. 2, 2001) (MN02-32)

MN01-33 (Mar. 2, 2001) (MN02-33)

MN01-34 (Mar. 2, 2001) (MN02-34)

MN01-35 (Mar. 2, 2001) (MN02-35)

MN01-36 (Mar. 2, 2001) (MN02-36)

MN01-37 (Mar. 2, 2001) (MN02-37)

MN01-38 (Mar. 2, 2001) (MN02-38)

MN01-39 (Mar. 2, 2001) (MN02-39)

MN01-40 (Mar. 2, 2001) (MN02-40)

MN01-41 (Mar. 2, 2001) (MN02-41)

MN01-42 (Mar. 2, 2001) (MN02-42)

MN01-43 (Mar. 2, 2001) (MN02-43)

MN01-44 (Mar. 2, 2001) (MN02-44)

MN01-45 (Mar. 2, 2001) (MN02-45)

MN01-46 (Mar. 2, 2001) (MN02-46)

MN01-47 (Mar. 2, 2001) (MN02-47)

MN01-48 (Mar. 2, 2001) (MN02-48)

MN01-49 (Mar. 2, 2001) (MN02-49)

MN01-50 (Mar. 2, 2001) (MN02-50)

MN01-51 (Mar. 2, 2001) (MN02-51)

MN01-52 (Mar. 2, 2001) (MN02-52)

MN01-53 (Mar. 2, 2001) (MN02-53)

MN01-54 (Mar. 2, 2001) (MN02-54)

MN01-55 (Mar. 2, 2001) (MN02-55)

MN01-56 (Mar. 2, 2001) (MN02-56)

MN01-57 (Mar. 2, 2001) (MN02-57)

MN01-58 (Mar. 2, 2001) (MN02-58)

MN01-59 (Mar. 2, 2001) (MN02-59)

MN01-60 (Mar. 2, 2001) (MN02-60)

MN01-61 (Mar. 2, 2001) (MN02-61)

Ohio

OH01-01 (Mar. 2, 2001) (OH02-01)

OH01-02 (Mar. 2, 2001) (OH02-02)

OH01-03 (Mar. 2, 2001) (OH02-03)

OH01-04 (Mar. 2, 2001) (OH02-04)

OH01-05 (Mar. 2, 2001) (OH02-05)

OH01-06 (Mar. 2, 2001) (OH02-06)

OH01-07 (Mar. 2, 2001) (OH02-07)

OH01-08 (Mar. 2, 2001) (OH02-08)

OH01-09 (Mar. 2, 2001) (OH02-09)

OH01-10 (Mar. 2, 2001) (OH02-010)

OH01-11 (Mar. 2, 2001) (OH02-11)

OH01-12 (Mar. 2, 2001) (OH02-12)

OH01-13 (Mar. 2, 2001) (OH02-13)

OH01-14 (Mar. 2, 2001) (OH02-14)

OH01-15 (Mar. 2, 2001) (OH02-15)

OH01-16 (Mar. 2, 2001) (OH02-16)

OH01-17 (Mar. 2, 2001) (OH02-17)

OH01-18 (Mar. 2, 2001) (OH02-18)

OH01-19 (Mar. 2, 2001) (OH02-19)

OH01-20 (Mar. 2, 2001) (OH02-20)

OH01-21 (Mar. 2, 2001) (OH02-21)

OH01-22 (Mar. 2, 2001) (OH02-22)

OH01-23 (Mar. 2, 2001) (OH02-23)

OH01-24 (Mar. 2, 2001) (OH02-24)

OH01-25 (Mar. 2, 2001) (OH02-25)

OH01-26 (Mar. 2, 2001) (OH02-26)

OH01-27 (Mar. 2, 2001) (OH02-27)

OH01-28 (Mar. 2, 2001) (OH02-28)

OH01-29 (Mar. 2, 2001) (OH02-29)

OH01-30 (Mar. 2, 2001) (OH02-30)

OH01-31 (Mar. 2, 2001) (OH02-31)

Wisconsin

WI01-01 (Mar. 2, 2001) (WI02-01)

WI01-02 (Mar. 2, 2001) (WI02-02)

WI01-03 (Mar. 2, 2001) (WI02-03)

WI01-04 (Mar. 2, 2001) (WI02-04)

WI01-05 (Mar. 2, 2001) (WI02-05)

WI01-06 (Mar. 2, 2001) (WI02-06)

WI01-07 (Mar. 2, 2001) (WI02-07)

WI01-08 (Mar. 2, 2001) (WI02-08)

WI01-09 (Mar. 2, 2001) (WI02-09)

WI01-10 (Mar. 2, 2001) (WI02-10)

WI01-11 (Mar. 2, 2001) (WI02-11)

WI01-12 (Mar. 2, 2001) (WI02-12)

WI01-13 (Mar. 2, 2001) (WI02-13)

WI01-14 (Mar. 2, 2001) (WI02-14)

WI01-15 (Mar. 2, 2001) (WI02-15)

WI01-16 (Mar. 2, 2001) (WI02-16)

WI01-17 (Mar. 2, 2001) (WI02-17)

WI01-18 (Mar. 2, 2001) (WI02-18)

WI01-19 (Mar. 2, 2001) (WI02-19)

WI01-20 (Mar. 2, 2001) (WI02-20)

WI01-21 (Mar. 2, 2001) (WI02-21)

WI01-22 (Mar. 2, 2001) (WI02-22)

WI01-23 (Mar. 2, 2001) (WI02-23)

WI01-24 (Mar. 2, 2001) (WI02-24)

WI01-25 (Mar. 2, 2001) (WI02-25)

WI01-26 (Mar. 2, 2001) (WI02-26)

WI01-27 (Mar. 2, 2001) (WI02-27)

WI01-28 (Mar. 2, 2001) (WI02-28)

WI01-29 (Mar. 2, 2001) (WI02-29)

WI01-30 (Mar. 2, 2001) (WI02-30)

WI01-31 (Mar. 2, 2001) (WI02-31)

WI01-32 (Mar. 2, 2001) (WI02-32)

WI01-33 (Mar. 2, 2001) (WI02-33)

WI01-34 (Mar. 2, 2001) (WI02-34)

WI01-35 (Mar. 2, 2001) (WI02-35)

WI01-36 (Mar. 2, 2001) (WI02-36)

WI01-37 (Mar. 2, 2001) (WI02-37)

WI01-38 (Mar. 2, 2001) (WI02-38)

WI01-39 (Mar. 2, 2001) (WI02-39)

WI01-40 (Mar. 2, 2001) (WI02-40)

WI01-41 (Mar. 2, 2001) (WI02-41)

WI01-42 (Mar. 2, 2001) (WI02-42)

WI01-43 (Mar. 2, 2001) (WI02-43)

WI01-44 (Mar. 2, 2001) (WI02-44)

WI01-45 (Mar. 2, 2001) (WI02-45)

Volume V

Arkansas

AR01-01 (Mar. 2, 2001) (AR02-01)

AR01-02 (Mar. 2, 2001) (AR02-02)

AR01-03 (Mar. 2, 2001) (AR02-03)

AR01-04 (Mar. 2, 2001) (AR02-04)

AR01-05 (Mar. 2, 2001) (AR02-05)

AR01-06 (Mar. 2, 2001) (AR02-06)

AR01-07 (Mar. 2, 2001) (AR02-07)

AR01-08 (Mar. 2, 2001) (AR02-08)

AR01-09 (Mar. 2, 2001) (AR02-09)

AR01-10 (Mar. 2, 2001) (AR02-10)

AR01-11 (Mar. 2, 2001) (AR02-11)

AR01-12 (Mar. 2, 2001) (AR02-12)

AR01-13 (Mar. 2, 2001) (AR02-13)

AR01-14 (Mar. 2, 2001) (AR02-14)

AR01-15 (Mar. 2, 2001) (AR02-15)

AR01-16 (Mar. 2, 2001) (AR02-16)

AR01-17 (Mar. 2, 2001) (AR02-17)

AR01-18 (Mar. 2, 2001) (AR02-18)

AR01-19 (Mar. 2, 2001) (AR02-19)

AR01-20 (Mar. 2, 2001) (AR02-20)

AR01-21 (Mar. 2, 2001) (AR02-21)

AR01-22 (Mar. 2, 2001) (AR02-22)

AR01-23 (Mar. 2, 2001) (AR02-23)

AR01-24 (Mar. 2, 2001) (AR02-24)

AR01-25 (Mar. 2, 2001) (AR02-25)

AR01-26 (Mar. 2, 2001) (AR02-26)

AR01-27 (Mar. 2, 2001) (AR02-27)

AR01-28 (Mar. 2, 2001) (AR02-28)

AR01-29 (Mar. 2, 2001) (AR02-29)

AR01-30 (Mar. 2, 2001) (AR02-30)

AR01-31 (Mar. 2, 2001) (AR02-31)

AR01-32 (Mar. 2, 2001) (AR02-32)

AR01-33 (Mar. 2, 2001) (AR02-33)

AR01-34 (Mar. 2, 2001) (AR02-34)

AR01-35 (Mar. 2, 2001) (AR02-35)

AR01-36 (Mar. 2, 2001) (AR02-36)

AR01-37 (Mar. 2, 2001) (AR02-37)

AR01-38 (Mar. 2, 2001) (AR02-38)

AR01-39 (Mar. 2, 2001) (AR02-39)

AR01-40 (Mar. 2, 2001) (AR02-40)

AR01-41 (Mar. 2, 2001) (AR02-41)

AR01-42 (Mar. 2, 2001) (AR02-42)

AR01-43 (Mar. 2, 2001) (AR02-43)

AR01-44 (Mar. 2, 2001) (AR02-44)

AR01-45 (Mar. 2, 2001) (AR02-45)

AR01-46 (Mar. 2, 2001) (AR02-46)

Iowa

IA01-01 (Mar. 2, 2001) (IA02-01)

IA01-02 (Mar. 2, 2001) (IA02-02)

IA01-03 (Mar. 2, 2001) (IA02-03)

IA01-04 (Mar. 2, 2001) (IA02-04)

IA01-05 (Mar. 2, 2001) (IA02-05)

IA01-06 (Mar. 2, 2001) (IA02-06)

IA01-07 (Mar. 2, 2001) (IA02-07)

IA01-08 (Mar. 2, 2001) (IA02-08)

IA01-09 (Mar. 2, 2001) (IA02-09)

IA01-10 (Mar. 2, 2001) (IA02-10)

IA01-11 (Mar. 2, 2001) (IA02-11)

IA01-12 (Mar. 2, 2001) (IA02-12)

IA01-13 (Mar. 2, 2001) (IA02-13)

IA01-14 (Mar. 2, 2001) (IA02-14)

IA01-15 (Mar. 2, 2001) (IA02-15)

IA01-16 (Mar. 2, 2001) (IA02-16)

IA01-17 (Mar. 2, 2001) (IA02-17)

IA01-18 (Mar. 2, 2001) (IA02-18)

IA01-19 (Mar. 2, 2001) (IA02-19)

IA01-20 (Mar. 2, 2001) (IA02-20)

IA01-21 (Mar. 2, 2001) (IA02-21)

IA01-22 (Mar. 2, 2001) (IA02-22)

IA01-23 (Mar. 2, 2001) (IA02-23)

IA01-24 (Mar. 2, 2001) (IA02-24)

IA01-25 (Mar. 2, 2001) (IA02-25)

IA01-26 (Mar. 2, 2001) (IA02-26)

IA01-27 (Mar. 2, 2001) (IA02-27)

IA01-28 (Mar. 2, 2001) (IA02-28)

IA01-29 (Mar. 2, 2001) (IA02-29)

IA01-30 (Mar. 2, 2001) (IA02-30)

IA01-31 (Mar. 2, 2001) (IA02-31)

IA01-32 (Mar. 2, 2001) (IA02-32)

IA01-33 (Mar. 2, 2001) (IA02-33)

IA01-34 (Mar. 2, 2001) (IA02-34)

IA01-35 (Mar. 2, 2001) (IA02-35)

IA01-36 (Mar. 2, 2001) (IA02-36)

IA01-37 (Mar. 2, 2001) (IA02-37)

IA01-38 (Mar. 2, 2001) (IA02-38)

IA01-39 (Mar. 2, 2001) (IA02-39)

IA01-40 (Mar. 2, 2001) (IA02-40)

IA01-41 (Mar. 2, 2001) (IA02-41)

IA01-42 (Mar. 2, 2001) (IA02-42)

IA01-43 (Mar. 2, 2001) (IA02-43)

IA01-44 (Mar. 2, 2001) (IA02-44)

IA01-45 (Mar. 2, 2001) (IA02-45)

IA01-46 (Mar. 2, 2001) (IA02-46)

IA01-47 (Mar. 2, 2001) (IA02-47)

IA01-48 (Mar. 2, 2001) (IA02-48)

IA01-49 (Mar. 2, 2001) (IA02-49)

IA01-50 (Mar. 2, 2001) (IA02-50)

IA01-51 (Mar. 2, 2001) (IA02-51)

IA01-52 (Mar. 2, 2001) (IA02-52)

IA01-53 (Mar. 2, 2001) (IA02-53)

IA01-54 (Mar. 2, 2001) (IA02-54)

IA01-55 (Mar. 2, 2001) (IA02-55)

IA01-56 (Mar. 2, 2001) (IA02-56)

IA01-57 (Mar. 2, 2001) (IA02-57)

IA01-58 (Mar. 2, 2001) (IA02-58)

IA01-59 (Mar. 2, 2001) (IA02-59)

IA01-60 (Mar. 2, 2001) (IA02-60)

IA01-61 (Mar. 2, 2001) (IA02-61)

IA01-62 (Mar. 2, 2001) (IA02-62)

IA01-63 (Mar. 2, 2001) (IA02-63)

IA01-64 (Mar. 2, 2001) (IA02-64)

IA01-65 (Mar. 2, 2001) (IA02-65)

IA01-66 (Mar. 2, 2001) (IA02-66)

IA01-67 (Mar. 2, 2001) (IA02-67)

IA01-68 (Mar. 2, 2001) (IA02-68)

IA01-69 (Mar. 2, 2001) (IA02-69)

Kansas

KS01-01 (Mar. 2, 2001) (KS02-01)

KS01-02 (Mar. 2, 2001) (KS02-02)

KS01-03 (Mar. 2, 2001) (KS02-03)

KS01-04 (Mar. 2, 2001) (KS02-04)

KS01-05 (Mar. 2, 2001) (KS02-05)

KS01-06 (Mar. 2, 2001) (KS02-06)

KS01-07 (Mar. 2, 2001) (KS02-07)

KS01-08 (Mar. 2, 2001) (KS02-08)

KS01-09 (Mar. 2, 2001) (KS02-09)

KS01-10 (Mar. 2, 2001) (KS02-10)

KS01-11 (Mar. 2, 2001) (KS02-11)

KS01-12 (Mar. 2, 2001) (KS02-12)

KS01-13 (Mar. 2, 2001) (KS02-13)

KS01-14 (Mar. 2, 2001) (KS02-14)

KS01-15 (Mar. 2, 2001) (KS02-15)

KS01-16 (Mar. 2, 2001) (KS02-16)

KS01-17 (Mar. 2, 2001) (KS02-17)

KS01-18 (Mar. 2, 2001) (KS02-18)

KS01-19 (Mar. 2, 2001) (KS02-19)

KS01-20 (Mar. 2, 2001) (KS02-20)

KS01-21 (Mar. 2, 2001) (KS02-21)

KS01-22 (Mar. 2, 2001) (KS02-22)

KS01-23 (Mar. 2, 2001) (KS02-23)

KS01-24 (Mar. 2, 2001) (KS02-24)

KS01-25 (Mar. 2, 2001) (KS02-25)

KS01-26 (Mar. 2, 2001) (KS02-26)

KS01-27 (Mar. 2, 2001) (KS02-27)

KS01-28 (Mar. 2, 2001) (KS02-28)

KS01-29 (Mar. 2, 2001) (KS02-29)

KS01-30 (Mar. 2, 2001) (KS02-30)

KS01-31 (Mar. 2, 2001) (KS02-31)

KS01-32 (Mar. 2, 2001) (KS02-32)

KS01-33 (Mar. 2, 2001) (KS02-33)

KS01-34 (Mar. 2, 2001) (KS02-34)

KS01-35 (Mar. 2, 2001) (KS02-35)

KS01-36 (Mar. 2, 2001) (KS02-36)

KS01-37 (Mar. 2, 2001) (KS02-37)

KS01-38 (Mar. 2, 2001) (KS02-38)

KS01-39 (Mar. 2, 2001) (KS02-39)

KS01-40 (Mar. 2, 2001) (KS02-40)

KS01-41 (Mar. 2, 2001) (KS02-41)

KS01-42 (Mar. 2, 2001) (KS02-42)

KS01-43 (Mar. 2, 2001) (KS02-43)

KS01-44 (Mar. 2, 2001) (KS02-44)

KS01-45 (Mar. 2, 2001) (KS02-45)

KS01-46 (Mar. 2, 2001) (KS02-46)

KS01-47 (Mar. 2, 2001) (KS02-47)

KS01-48 (Mar. 2, 2001) (KS02-48)

KS01-49 (Mar. 2, 2001) (KS02-49)

KS01-50 (Mar. 2, 2001) (KS02-50)

KS01-51 (Mar. 2, 2001) (KS02-51)

KS01-52 (Mar. 2, 2001) (KS02-52)

KS01-53 (Mar. 2, 2001) (KS02-53)

KS01-54 (Mar. 2, 2001) (KS02-54)

KS01-55 (Mar. 2, 2001) (KS02-55)

KS01-56 (Mar. 2, 2001) (KS02-56)

KS01-57 (Mar. 2, 2001) (KS02-57)

KS01-58 (Mar. 2, 2001) (KS02-58)

KS01-59 (Mar. 2, 2001) (KS02-59)

KS01-60 (Mar. 2, 2001) (KS02-60)

KS01-61 (Mar. 2, 2001) (KS02-61)

KS01-62 (Mar. 2, 2001) (KS02-62)

KS01-63 (Mar. 2, 2001) (KS02-63)

KS01-64 (Mar. 2, 2001) (KS02-64)

KS01-65 (Mar. 2, 2001) (KS02-65)

KS01-66 (Mar. 2, 2001) (KS02-66)

KS01-67 (Mar. 2, 2001) (KS02-67)

KS01-68 (Mar. 2, 2001) (KS02-68)

KS01-69 (Mar. 2, 2001) (KS02-69)

KS01-70 (Mar. 2, 2001) (KS02-70)

Louisiana

LA01-01 (Mar. 2, 2001) (LA02-01)

LA01-02 (Mar. 2, 2001) (LA02-02)

LA01-03 (Mar. 2, 2001) (LA02-03)

LA01-04 (Mar. 2, 2001) (LA02-04)

LA01-05 (Mar. 2, 2001) (LA02-05)

LA01-06 (Mar. 2, 2001) (LA02-06)

LA01-07 (Mar. 2, 2001) (LA02-07)

LA01-08 (Mar. 2, 2001) (LA02-08)

LA01-09 (Mar. 2, 2001) (LA02-09)

LA01-10 (Mar. 2, 2001) (LA02-10)

LA01-11 (Mar. 2, 2001) (LA02-11)

LA01-12 (Mar. 2, 2001) (LA02-12)

LA01-13 (Mar. 2, 2001) (LA02-13)

LA01-14 (Mar. 2, 2001) (LA02-14)

LA01-15 (Mar. 2, 2001) (LA02-15)

LA01-16 (Mar. 2, 2001) (LA02-16)

LA01-17 (Mar. 2, 2001) (LA02-17)

LA01-18 (Mar. 2, 2001) (LA02-18)

LA01-19 (Mar. 2, 2001) (LA02-19)

LA01-20 (Mar. 2, 2001) (LA02-20)

LA01-21 (Mar. 2, 2001) (LA02-21)

LA01-22 (Mar. 2, 2001) (LA02-22)

LA01-23 (Mar. 2, 2001) (LA02-23)

LA01-24 (Mar. 2, 2001) (LA02-24)

LA01-25 (Mar. 2, 2001) (LA02-25)

LA01-26 (Mar. 2, 2001) (LA02-26)

LA01-27 (Mar. 2, 2001) (LA02-27)

LA01-28 (Mar. 2, 2001) (LA02-28)

LA01-29 (Mar. 2, 2001) (LA02-29)

LA01-30 (Mar. 2, 2001) (LA02-30)

LA01-31 (Mar. 2, 2001) (LA02-31)

LA01-32 (Mar. 2, 2001) (LA02-32)

LA01-33 (Mar. 2, 2001) (LA02-33)

LA01-34 (Mar. 2, 2001) (LA02-34)

LA01-35 (Mar. 2, 2001) (LA02-35)

LA01-36 (Mar. 2, 2001) (LA02-36)

LA01-37 (Mar. 2, 2001) (LA02-37)

LA01-38 (Mar. 2, 2001) (LA02-38)

LA01-39 (Mar. 2, 2001) (LA02-39)

LA01-40 (Mar. 2, 2001) (LA02-40)

LA01-41 (Mar. 2, 2001) (LA02-41)

LA01-42 (Mar. 2, 2001) (LA02-42)

LA01-43 (Mar. 2, 2001) (LA02-43)

LA01-44 (Mar. 2, 2001) (LA02-44)

LA01-45 (Mar. 2, 2001) (LA02-45)

LA01-46 (Mar. 2, 2001) (LA02-46)

LA01-47 (Mar. 2, 2001) (LA02-47)

LA01-48 (Mar. 2, 2001) (LA02-48)

LA01-49 (Mar. 2, 2001) (LA02-49)

LA01-50 (Mar. 2, 2001) (LA02-50)

LA01-51 (Mar. 2, 2001) (LA02-51)

LA01-52 (Mar. 2, 2001) (LA02-52)

LA01-53 (Mar. 2, 2001) (LA02-53)

LA01-54 (Mar. 2, 2001) (LA02-54)

Missouri

MO01-01 (Mar. 2, 2001) (MO02-01)

MO01-02 (Mar. 2, 2001) (MO02-02)

MO01-03 (Mar. 2, 2001) (MO02-03)

MO01-04 (Mar. 2, 2001) (MO02-04)

MO01-05 (Mar. 2, 2001) (MO02-05)

MO01-06 (Mar. 2, 2001) (MO02-06)

MO01-07 (Mar. 2, 2001) (MO02-07)

MO01-08 (Mar. 2, 2001) (MO02-08)

MO01-09 (Mar. 2, 2001) (MO02-09)

MO01-10 (Mar. 2, 2001) (MO02-10)

MO01-11 (Mar. 2, 2001) (MO02-11)

MO01-12 (Mar. 2, 2001) (MO02-12)

MO01-13 (Mar. 2, 2001) (MO02-13)

MO01-14 (Mar. 2, 2001) (MO02-14)

MO01-15 (Mar. 2, 2001) (MO02-15)

MO01-16 (Mar. 2, 2001) (MO02-16)

MO01-17 (Mar. 2, 2001) (MO02-17)

MO01-18 (Mar. 2, 2001) (MO02-18)

MO01-19 (Mar. 2, 2001) (MO02-19)

MO01-20 (Mar. 2, 2001) (MO02-20)

MO01-21 (Mar. 2, 2001) (MO02-21)

MO01-22 (Mar. 2, 2001) (MO02-22)

MO01-23 (Mar. 2, 2001) (MO02-23)

MO01-24 (Mar. 2, 2001) (MO02-24)

MO01-25 (Mar. 2, 2001) (MO02-25)

MO01-26 (Mar. 2, 2001) (MO02-26)

MO01-27 (Mar. 2, 2001) (MO02-27)

MO01-28 (Mar. 2, 2001) (MO02-28)

MO01-29 (Mar. 2, 2001) (MO02-29)

MO01-30 (Mar. 2, 2001) (MO02-30)

MO01-31 (Mar. 2, 2001) (MO02-31)

MO01-32 (Mar. 2, 2001) (MO02-32)

MO01-33 (Mar. 2, 2001) (MO02-33)

MO01-34 (Mar. 2, 2001) (MO02-34)

MO01-35 (Mar. 2, 2001) (MO02-35)

MO01-36 (Mar. 2, 2001) (MO02-36)

MO01-37 (Mar. 2, 2001) (MO02-37)

MO01-38 (Mar. 2, 2001) (MO02-38)

MO01-39 (Mar. 2, 2001) (MO02-39)

MO01-40 (Mar. 2, 2001) (MO02-40)

MO01-41 (Mar. 2, 2001) (MO02-41)

MO01-42 (Mar. 2, 2001) (MO02-42)

MO01-43 (Mar. 2, 2001) (MO02-43)

MO01-44 (Mar. 2, 2001) (MO02-44)

MO01-45 (Mar. 2, 2001) (MO02-45)

MO01-46 (Mar. 2, 2001) (MO02-46)

MO01-47 (Mar. 2, 2001) (MO02-47)

MO01-48 (Mar. 2, 2001) (MO02-48)

MO01-49 (Mar. 2, 2001) (MO02-49)

MO01-50 (Mar. 2, 2001) (MO02-50)

MO01-51 (Mar. 2, 2001) (MO02-51)

MO01-52 (Mar. 2, 2001) (MO02-52)

MO01-53 (Mar. 2, 2001) (MO02-53)

MO01-54 (Mar. 2, 2001) (MO02-54)

MO01-55 (Mar. 2, 2001) (MO02-55)

MO01-56 (Mar. 2, 2001) (MO02-56)

MO01-57 (Mar. 2, 2001) (MO02-57)

MO01-58 (Mar. 2, 2001) (MO02-58)

MO01-59 (Mar. 2, 2001) (MO02-59)

MO01-60 (Mar. 2, 2001) (MO02-60)

MO01-61 (Mar. 2, 2001) (MO02-61)

Nebraska

NE01-01 (Mar. 2, 2001) (NE02-01)

NE01-02 (Mar. 2, 2001) (NE02-02)

NE01-03 (Mar. 2, 2001) (NE02-03)

NE01-04 (Mar. 2, 2001) (NE02-04)

NE01-05 (Mar. 2, 2001) (NE02-05)

NE01-06 (Mar. 2, 2001) (NE02-06)

NE01-07 (Mar. 2, 2001) (NE02-07)

NE01-08 (Mar. 2, 2001) (NE02-08)

NE01-09 (Mar. 2, 2001) (NE02-09)

NE01-10 (Mar. 2, 2001) (NE02-10)

NE01-11 (Mar. 2, 2001) (NE02-11)

NE01-12 (Mar. 2, 2001) (NE02-12)

NE01-13 (Mar. 2, 2001) (NE02-13)

NE01-14 (Mar. 2, 2001) (NE02-14)

NE01-15 (Mar. 2, 2001) (NE02-15)

NE01-16 (Mar. 2, 2001) (NE02-16)

NE01-17 (Mar. 2, 2001) (NE02-17)

NE01-18 (Mar. 2, 2001) (NE02-18)

NE01-19 (Mar. 2, 2001) (NE02-19)

NE01-20 (Mar. 2, 2001) (NE02-20)

NE01-21 (Mar. 2, 2001) (NE02-21)

NE01-22 (Mar. 2, 2001) (NE02-22)

NE01-23 (Mar. 2, 2001) (NE02-23)

NE01-24 (Mar. 2, 2001) (NE02-24)

NE01-25 (Mar. 2, 2001) (NE02-25)

NE01-26 (Mar. 2, 2001) (NE02-26)

NE01-27 (Mar. 2, 2001) (NE02-27)

NE01-28 (Mar. 2, 2001) (NE02-28)

NE01-29 (Mar. 2, 2001) (NE02-29)

NE01-30 (Mar. 2, 2001) (NE02-30)

NE01-31 (Mar. 2, 2001) (NE02-31)

NE01-32 (Mar. 2, 2001) (NE02-32)

NE01-33 (Mar. 2, 2001) (NE02-33)

NE01-34 (Mar. 2, 2001) (NE02-34)

NE01-35 (Mar. 2, 2001) (NE02-35)

NE01-36 (Mar. 2, 2001) (NE02-36)

NE01-37 (Mar. 2, 2001) (NE02-37)

NE01-38 (Mar. 2, 2001) (NE02-38)

NE01-39 (Mar. 2, 2001) (NE02-39)

NE01-40 (Mar. 2, 2001) (NE02-40)

NE01-41 (Mar. 2, 2001) (NE02-41)

NE01-42 (Mar. 2, 2001) (NE02-42)

NE01-43 (Mar. 2, 2001) (NE02-43)

New Mexico

NM01-01 (Mar. 2, 2001) (NM01-01)

NM01-02 (Mar. 2, 2001) (NM01-02)

NM01-03 (Mar. 2, 2001) (NM01-03)

NM01-04 (Mar. 2, 2001) (NM01-04)

NM01-05 (Mar. 2, 2001) (NM01-05)

NM01-06 (Mar. 2, 2001) (NM01-06)

NM01-07 (Mar. 2, 2001) (NM01-07)

NM01-08 (Apr. 13, 2001) (NM01-08)

NM01-09 (Apr. 13, 2001) (NM01-09)

NM01-10 (Apr. 13, 2001) (NM01-10)

NM01-11 (Apr. 13, 2001) (NM01-11)

Oklahoma

OK01-01 (Mar. 2, 2001) (OK01-01)

OK01-02 (Mar. 2, 2001) (OK01-02)

OK01-03 (Mar. 2, 2001) (OK01-03)

OK01-04 (Mar. 2, 2001) (OK01-04)

OK01-05 (Mar. 2, 2001) (OK01-05)

OK01-06 (Mar. 2, 2001) (OK01-06)

OK01-07 (Mar. 2, 2001) (OK01-07)

OK01-08 (Mar. 2, 2001) (OK01-08)

OK01-09 (Mar. 2, 2001) (OK01-09)

OK01-10 (Mar. 2, 2001) (OK01-10)

OK01-11 (Mar. 2, 2001) (OK01-11)

OK01-12 (Mar. 2, 2001) (OK01-12)

OK01-13 (Mar. 2, 2001) (OK01-13)

OK01-14 (Mar. 2, 2001) (OK01-14)

OK01-15 (Mar. 2, 2001) (OK01-15)

OK01-16 (Mar. 2, 2001) (OK01-16)

OK01-17 (Mar. 2, 2001) (OK01-17)

OK01-18 (Mar. 2, 2001) (OK01-18)

OK01-19 (Mar. 2, 2001) (OK01-19)

OK01-20 (Mar. 2, 2001) (OK01-20)

OK01-21 (Mar. 2, 2001) (OK01-21)

OK01-22 (Mar. 2, 2001) (OK01-22)

OK01-23 (Mar. 2, 2001) (OK01-23)

OK01-24 (Mar. 2, 2001) (OK01-24)

OK01-25 (Mar. 2, 2001) (OK01-25)

OK01-26 (Mar. 2, 2001) (OK01-26)

OK01-27 (Mar. 2, 2001) (OK01-27)

OK01-28 (Mar. 2, 2001) (OK01-28)

OK01-29 (Mar. 2, 2001) (OK01-29)

OK01-30 (Mar. 2, 2001) (OK01-30)

OK01-31 (Mar. 2, 2001) (OK01-31)

OK01-32 (Mar. 2, 2001) (OK01-32)

OK01-33 (Mar. 2, 2001) (OK01-33)

OK01-34 (Mar. 2, 2001) (OK01-34)

OK01-35 (Mar. 2, 2001) (OK01-35)

OK01-36 (Mar. 2, 2001) (OK01-36)

OK01-37 (Mar. 2, 2001) (OK01-37)

OK01-38 (Mar. 2, 2001) (OK01-38)

OK01-39 (Mar. 2, 2001) (OK01-39)

OK01-40 (Mar. 2, 2001) (OK01-40)

OK01-41 (Mar. 2, 2001) (OK01-41)

OK01-42 (Mar. 2, 2001) (OK01-42)

OK01-43 (Mar. 2, 2001) (OK01-43)

OK01-44 (Mar. 2, 2001) (OK01-44)

OK01-45 (Mar. 2, 2001) (OK01-45)

OK01-46 (Mar. 2, 2001) (OK01-46)

Texas

TX01-01 (Mar. 2, 2001) (TX01-01)

TX01-02 (Mar. 2, 2001) (TX01-02)

TX01-03 (Mar. 2, 2001) (TX01-03)

TX01-04 (Mar. 2, 2001) (TX01-04)

TX01-05 (Mar. 2, 2001) (TX01-05)

TX01-06 (Mar. 2, 2001) (TX01-06)

TX01-07 (Mar. 2, 2001) (TX01-07)

TX01-08 (Mar. 2, 2001) (TX01-08)

TX01-09 (Mar. 2, 2001) (TX01-09)

TX01-10 (Mar. 2, 2001) (TX01-10)

TX01-11 (Mar. 2, 2001) (TX01-11)

TX01-12 (Mar. 2, 2001) (TX01-12)

TX01-13 (Mar. 2, 2001) (TX01-13)

TX01-14 (Mar. 2, 2001) (TX01-14)

TX01-15 (Mar. 2, 2001) (TX01-15)

TX01-16 (Mar. 2, 2001) (TX01-16)

TX01-17 (Mar. 2, 2001) (TX01-17)

TX01-18 (Mar. 2, 2001) (TX01-18)

TX01-19 (Mar. 2, 2001) (TX01-19)

TX01-20 (Mar. 2, 2001) (TX01-20)

TX01-21 (Mar. 2, 2001) (TX01-21)

TX01-22 (Mar. 2, 2001) (TX01-22)

TX01-23 (Mar. 2, 2001) (TX01-23)

TX01-24 (Mar. 2, 2001) (TX01-24)

TX01-25 (Mar. 2, 2001) (TX01-25)

TX01-26 (Mar. 2, 2001) (TX01-26)

TX01-27 (Mar. 2, 2001) (TX01-27)

TX01-28 (Mar. 2, 2001) (TX01-28)

TX01-29 (Mar. 2, 2001) (TX01-29)

TX01-30 (Mar. 2, 2001) (TX01-30)

TX01-31 (Mar. 2, 2001) (TX01-31)

TX01-32 (Mar. 2, 2001) (TX01-32)

TX01-33 (Mar. 2, 2001) (TX01-33)

TX01-34 (Mar. 2, 2001) (TX01-34)

TX01-35 (Mar. 2, 2001) (TX01-35)

TX01-36 (Mar. 2, 2001) (TX01-36)

TX01-37 (Mar. 2, 2001) (TX01-37)

TX01-38 (Mar. 2, 2001) (TX01-38)

TX01-39 (Mar. 2, 2001) (TX01-30)

TX01-40 (Mar. 2, 2001) (TX01-40)

TX01-41 (Mar. 2, 2001) (TX01-41)

TX01-42 (Mar. 2, 2001) (TX01-42)

TX01-43 (Mar. 2, 2001) (TX01-43)

TX01-44 (Mar. 2, 2001) (TX01-44)

TX01-45 (Mar. 2, 2001) (TX01-45)

TX01-46 (Mar. 2, 2001) (TX01-46)

TX01-47 (Mar. 2, 2001) (TX01-48)

TX01-48 (Mar. 2, 2001) (TX01-48)

TX01-49 (Mar. 2, 2001) (TX01-49)

TX01-50 (Mar. 2, 2001) (TX01-50)

TX01-51 (Mar. 2, 2001) (TX01-51)

TX01-52 (Mar. 2, 2001) (TX01-52)

TX01-53 (Mar. 2, 2001) (TX01-53)

TX01-54 (Mar. 2, 2001) (TX01-54)

TX01-55 (Mar. 2, 2001) (TX01-55)

TX01-56 (Mar. 2, 2001) (TX01-56)

TX01-57 (Mar. 2, 2001) (TX01-57)

TX01-58 (Mar. 2, 2001) (TX01-58)

TX01-59 (Mar. 2, 2001) (TX01-59)

TX01-60 (Mar. 2, 2001) (TX01-60)

TX01-61 (Mar. 2, 2001) (TX01-61)

TX01-62 (Mar. 2, 2001) (TX01-62)

TX01-63 (Mar. 2, 2001) (TX01-63)

TX01-64 (Mar. 2, 2001) (TX01-64)

TX01-65 (Mar. 2, 2001) (TX01-65)

TX01-66 (Mar. 2, 2001) (TX01-66)

TX01-67 (Mar. 2, 2001) (TX01-67)

TX01-68 (Mar. 2, 2001) (TX01-68)

TX01-69 (Mar. 2, 2001) (TX01-69)

TX01-70 (Mar. 2, 2001) (TX01-70)

TX01-71 (Mar. 2, 2001) (TX01-71)

TX01-72 (Mar. 2, 2001) (TX01-72)

TX01-73 (Mar. 2, 2001) (TX01-73)

TX01-74 (Mar. 2, 2001) (TX01-74)

TX01-75 (Mar. 2, 2001) (TX01-75)

TX01-76 (Mar. 2, 2001) (TX01-76)

TX01-77 (Mar. 2, 2001) (TX01-77)

TX01-78 (Mar. 2, 2001) (TX01-78)

TX01-79 (Mar. 2, 2001) (TX01-79)

TX01-80 (Mar. 2, 2001) (TX01-80)

TX01-81 (Mar. 2, 2001) (TX01-81)

TX01-82 (Mar. 2, 2001) (TX01-82)

TX01-83 (Mar. 2, 2001) (TX01-83)

TX01-84 (Mar. 2, 2001) (TX01-84)

TX01-85 (Mar. 2, 2001) (TX01-85)

TX01-86 (Mar. 2, 2001) (TX01-86)

TX01-87 (Mar. 2, 2001) (TX01-87)

TX01-88 (Mar. 2, 2001) (TX01-88)

TX01-89 (Mar. 2, 2001) (TX01-89)

TX01-90 (Mar. 2, 2001) (TX01-90)

TX01-91 (Mar. 2, 2001) (TX01-91)

TX01-92 (Mar. 2, 2001) (TX01-92)

TX01-93 (Mar. 2, 2001) (TX01-93)

TX01-94 (Mar. 2, 2001) (TX01-94)

TX01-95 (Mar. 2, 2001) (TX01-95)

TX01-96 (Mar. 2, 2001) (TX01-96)

TX01-97 (Mar. 2, 2001) (TX01-97)

TX01-98 (Mar. 2, 2001) (TX01-98)

TX01-99 (Mar. 2, 2001) (TX01-99)

TX01-100 (Mar. 2, 2001) (TX01-100)

TX01-101 (Mar. 2, 2001) (TX01-101)

TX01-102 (Mar. 2, 2001) (TX01-102)

TX01-103 (Mar. 2, 2001) (TX01-103)

TX01-104 (Mar. 2, 2001) (TX01-104)

TX01-105 (Mar. 2, 2001) (TX01-105)

TX01-106 (Mar. 2, 2001) (TX01-106)

TX01-107 (Mar. 2, 2001) (TX01-107)

TX01-108 (Mar. 2, 2001) (TX01-108)

TX01-109 (Mar. 2, 2001) (TX01-109)

TX01-110 (Mar. 2, 2001) (TX01-110)

TX01-111 (Mar. 2, 2001) (TX01-111)

TX01-112 (Mar. 2, 2001) (TX01-112)

TX01-113 (Mar. 2, 2001) (TX01-113)

TX01-114 (Mar. 2, 2001) (TX01-114)

TX01-115 (Mar. 2, 2001) (TX01-115)

TX01-116 (Mar. 2, 2001) (TX01-116)

TX01-117 (Mar. 2, 2001) (TX01-117)

TX01-118 (Mar. 2, 2001) (TX01-118)

TX01-119 (Mar. 2, 2001) (TX01-119)

TX01-120 (Mar. 2, 2001) (TX01-120)

TX01-121 (Mar. 2, 2001) (TX01-121)

Volume VI

Alaska

AK01-01 (Mar. 2, 2001) (AK02-01)

AK01-02 (Mar. 2, 2001) (AK02-02)

AK01-03 (Mar. 2, 2001) (AK02-03)

AK01-04 (Mar. 2, 2001) (AK02-04)

AK01-05 (Mar. 2, 2001) (AK02-05)

AK01-06 (Mar. 2, 2001) (AK02-06)

AK01-07 (Mar. 2, 2001) (AK02-07)

AK01-08 (Mar. 2, 2001) (AK02-08)

Colorado

CO01-01 (Mar. 2, 2001) (CO02-01)

CO01-02 (Mar. 2, 2001) (CO02-02)

CO01-03 (Mar. 2, 2001) (CO02-03)

CO01-04 (Mar. 2, 2001) (CO02-04)

CO01-05 (Mar. 2, 2001) (CO02-05)

CO01-06 (Mar. 2, 2001) (CO02-06)

CO01-07 (Mar. 2, 2001) (CO02-07)

CO01-08 (Mar. 2, 2001) (CO02-08)

CO01-09 (Mar. 2, 2001) (CO02-09)

CO01-10 (Mar. 2, 2001) (CO02-10)

CO01-11 (Mar. 2, 2001) (CO02-11)

CO01-12 (Mar. 2, 2001) (CO02-12)

CO01-13 (Mar. 2, 2001) (CO02-13)

CO01-14 (Mar. 2, 2001) (CO02-14)

CO01-15 (Mar. 2, 2001) (CO02-15)

CO01-16 (Mar. 2, 2001) (CO02-16)

CO01-17 (Mar. 2, 2001) (CO02-17)

CO01-18 (Mar. 2, 2001) (CO02-18)

CO01-19 (Mar. 2, 2001) (CO02-19)

CO01-20 (Mar. 2, 2001) (CO02-20)

CO01-21 (Mar. 2, 2001) (CO02-21)

CO01-22 (Mar. 2, 2001) (CO02-22)

CO01-23 (Mar. 2, 2001) (CO02-23)

CO01-24 (Mar. 2, 2001) (CO02-24)

CO01-25 (Mar. 2, 2001) (CO02-25)

CO01-26 (Mar. 2, 2001) (CO02-26)

CO01-27 (Mar. 2, 2001) (CO02-27)

CO01-28 (Mar. 2, 2001) (CO02-28)

Idaho

ID01-01 (Mar. 2, 2001) (ID02-01)

ID01-02 (Mar. 2, 2001) (ID02-02)

ID01-03 (Mar. 2, 2001) (ID02-03)

ID01-04 (Mar. 2, 2001) (ID02-04)

ID01-05 (Mar. 2, 2001) (ID02-05)

ID01-06 (Mar. 2, 2001) (ID02-06)

ID01-07 (Mar. 2, 2001) (ID02-07)

ID01-08 (Mar. 2, 2001) (ID02-08)

ID01-09 (Mar. 2, 2001) (ID02-09)

ID01-10 (Mar. 2, 2001) (ID02-10)

ID01-11 (Mar. 2, 2001) (ID02-11)

ID01-12 (Mar. 2, 2001) (ID02-12)

ID01-13 (Mar. 2, 2001) (ID02-13)

ID01-14 (Mar. 2, 2001) (ID02-14)

Montana

MT01-01 (Mar. 2, 2001) (MT02-01)

MT01-02 (Mar. 2, 2001) (MT02-02)

MT01-03 (Mar. 2, 2001) (MT02-03)

MT01-04 (Mar. 2, 2001) (MT02-04)

MT01-05 (Mar. 2, 2001) (MT02-05)

MT01-06 (Mar. 2, 2001) (MT02-06)

MT01-07 (Mar. 2, 2001) (MT02-07)

MT01-08 (Mar. 2, 2001) (MT02-08)

MT01-09 (Mar. 2, 2001) (MT02-09)

MT01-10 (Mar. 2, 2001) (MT02-10)

MT01-11 (Mar. 2, 2001) (MT02-11)

MT01-12 (Mar. 2, 2001) (MT02-12)

MT01-13 (Mar. 2, 2001) (MT02-13)

MT01-14 (Mar. 2, 2001) (MT02-14)

MT01-15 (Mar. 2, 2001) (MT02-15)

MT01-16 (Mar. 2, 2001) (MT02-16)

MT01-17 (Mar. 2, 2001) (MT02-17)

MT01-18 (Mar. 2, 2001) (MT02-18)

MT01-19 (Mar. 2, 2001) (MT02-19)

MT01-20 (Mar. 2, 2001) (MT02-20)

MT01-21 (Mar. 2, 2001) (MT02-21)

MT01-22 (Mar. 2, 2001) (MT02-22)

MT01-23 (Mar. 2, 2001) (MT02-23)

MT01-24 (Mar. 2, 2001) (MT02-24)

MT01-25 (Mar. 2, 2001) (MT02-25)

MT01-26 (Mar. 2, 2001) (MT02-26)

MT01-27 (Mar. 2, 2001) (MT02-27)

MT01-28 (Mar. 2, 2001) (MT02-28)

MT01-29 (Mar. 2, 2001) (MT02-29)

MT01-30 (Mar. 2, 2001) (MT02-30)

MT01-31 (Mar. 2, 2001) (MT02-31)

MT01-32 (Mar. 2, 2001) (MT02-32)

MT01-33 (Mar. 2, 2001) (MT02-33)

MT01-34 (Mar. 2, 2001) (MT02-34)

MT01-35 (Mar. 2, 2001) (MT02-35)

North Dakota

ND01-01 (Mar. 2, 2001) (ND02-01)

ND01-02 (Mar. 2, 2001) (ND02-02)

ND01-03 (Mar. 2, 2001) (ND02-03)

ND01-04 (Mar. 2, 2001) (ND02-04)

ND01-05 (Mar. 2, 2001) (ND02-05)

ND01-06 (Mar. 2, 2001) (ND02-06)

ND01-07 (Mar. 2, 2001) (ND02-07)

ND01-08 (Mar. 2, 2001) (ND02-08)

ND01-09 (Mar. 2, 2001) (ND02-09)

ND01-10 (Mar. 2, 2001) (ND02-10)

ND01-11 (Mar. 2, 2001) (ND02-11)

ND01-12 (Mar. 2, 2001) (ND02-12)

ND01-13 (Mar. 2, 2001) (ND02-13)

ND01-14 (Mar. 2, 2001) (ND02-14)

ND01-15 (Mar. 2, 2001) (ND02-15)

ND01-16 (Mar. 2, 2001) (ND02-16)

ND01-17 (Mar. 2, 2001) (ND02-17)

ND01-18 (Mar. 2, 2001) (ND02-18)

ND01-19 (Mar. 2, 2001) (ND02-19)

Oregon

OR01-01 (Mar. 2, 2001) (OR02-01)

OR01-02 (Mar. 2, 2001) (OR02-02)

OR01-03 (Mar. 2, 2001) (OR02-03)

OR01-04 (Mar. 2, 2001) (OR02-04)

OR01-05 (Mar. 2, 2001) (OR02-05)

OR01-06 (Mar. 2, 2001) (OR02-06)

OR01-07 (Mar. 2, 2001) (OR02-07)

OR01-08 (Mar. 2, 2001) (OR02-08)

OR01-09 (Mar. 2, 2001) (OR02-09)

OR01-10 (Mar. 2, 2001) (OR02-10)

OR01-11 (Mar. 2, 2001) (OR02-11)

OR01-12 (Mar. 2, 2001) (OR02-12)

OR01-13 (Mar. 2, 2001) (OR02-13)

OR01-14 (Mar. 2, 2001) (OR02-14)

OR01-15 (Mar. 2, 2001) (OR02-15)

OR01-16 (Mar. 2, 2001) (OR02-16)

OR01-17 (Mar. 2, 2001) (OR02-17)

South Dakota

SD01-01 (Mar. 2, 2001) (SD02-01)

SD01-02 (Mar. 2, 2001) (SD02-02)

SD01-03 (Mar. 2, 2001) (SD02-03)

SD01-04 (Mar. 2, 2001) (SD02-04)

SD01-05 (Mar. 2, 2001) (SD02-05)

SD01-06 (Mar. 2, 2001) (SD02-06)

SD01-07 (Mar. 2, 2001) (SD02-07)

SD01-08 (Mar. 2, 2001) (SD02-08)

SD01-09 (Mar. 2, 2001) (SD02-09)

SD01-10 (Mar. 2, 2001) (SD02-10)

Utah

UT01-01 (Mar. 2, 2001) (UT02-01)

UT01-02 (Mar. 2, 2001) (UT02-02)

UT01-03 (Mar. 2, 2001) (UT02-03)

UT01-04 (Mar. 2, 2001) (UT02-04)

UT01-05 (Mar. 2, 2001) (UT02-05)

UT01-06 (Mar. 2, 2001) (UT02-06)

UT01-07 (Mar. 2, 2001) (UT02-07)

UT01-08 (Mar. 2, 2001) (UT02-09)

UT01-10 (Mar. 2, 2001) (UT02-10)

UT01-11 (Mar. 2, 2001) (UT02-11)

UT01-12 (Mar. 2, 2001) (UT02-12)

UT01-13 (Mar. 2, 2001) (UT02-13)

UT01-13 (Mar. 2, 2001) (UT02-13)

UT01-14 (Mar. 2, 2001) (UT02-14)

UT01-15 (Mar. 2, 2001) (UT02-15)

UT01-16 (Mar. 2, 2001) (UT02-16)

UT01-17 (Mar. 2, 2001) (UT02-17)

UT01-18 (Mar. 2, 2001) (UT02-18)

UT01-19 (Mar. 2, 2001) (UT02-19)

UT01-20 (Mar. 2, 2001) (UT02-20)

UT01-21 (Mar. 2, 2001) (UT02-21)

UT01-22 (Mar. 2, 2001) (UT02-22)

UT01-23 (Mar. 2, 2001) (UT02-23)

UT01-24 (Mar. 2, 2001) (UT02-24)

UT01-25 (Mar. 2, 2001) (UT02-25)

UT01-26 (Mar. 2, 2001) (UT02-26)

UT01-27 (Mar. 2, 2001) (UT02-27)

UT01-28 (Mar. 2, 2001) (UT02-28)

UT01-29 (Mar. 2, 2001) (UT02-29)

UT01-30 (Mar. 2, 2001) (UT02-30)

UT01-31 (Mar. 2, 2001) (UT02-31)

UT01-32 (Mar. 2, 2001) (UT02-32)

UT01-33 (Mar. 2, 2001) (UT02-33)

UT01-34 (Mar. 2, 2001) (UT02-34)

UT01-35 (Mar. 2, 2001) (UT02-35)

UT01-36 (Mar. 2, 2001) (UT02-36)

Washington

WA01-01 (Mar. 2, 2001) (WA02-01)

WA01-02 (Mar. 2, 2001) (WA02-02)

WA01-03 (Mar. 2, 2001) (WA02-03)

WA01-04 (Mar. 2, 2001) (WA02-04)

WA01-05 (Mar. 2, 2001) (WA02-05)

WA01-06 (Mar. 2, 2001) (WA02-06)

WA01-07 (Mar. 2, 2001) (WA02-07)

WA01-08 (Mar. 2, 2001) (WA02-08)

WA01-09 (Mar. 2, 2001) (WA02-09)

WA01-10 (Mar. 2, 2001) (WA02-10)

WA01-11 (Mar. 2, 2001) (WA02-11)

WA01-12 (Mar. 2, 2001) (WA02-12)

WA01-13 (Mar. 2, 2001) (WA02-13)

WA01-14 (Mar. 2, 2001) (WA02-14)

WA01-15 (Mar. 2, 2001) (WA02-15)

WA01-16 (Mar. 2, 2001) (WA02-16)

WA01-17 (Mar. 2, 2001) (WA02-17)

WA01-18 (Mar. 2, 2001) (WA02-18)

WA01-19 (Mar. 2, 2001) (WA02-19)

WA01-20 (Mar. 2, 2001) (WA02-20)

WA01-21 (Mar. 2, 2001) (WA02-21)

WA01-22 (Mar. 2, 2001) (WA02-22)

WA01-23 (Mar. 2, 2001) (WA02-23)

WA01-24 (Mar. 2, 2001) (WA02-24)

WA01-25 (Mar. 2, 2001) (WA02-25)

WA01-26 (Mar. 2, 2001) (WA02-26)

WA01-27 (Mar. 2, 2001) (WA02-27)

Wyoming

WY01-01 (Mar. 2, 2001) (WY02-01)

WY01-02 (Mar. 2, 2001) (WY02-02)

WY01-03 (Mar. 2, 2001) (WY02-03)

WY01-04 (Mar. 2, 2001) (WY02-04)

WY01-05 (Mar. 2, 2001) (WY02-05)

WY01-06 (Mar. 2, 2001) (WY02-06)

WY01-07 (Mar. 2, 2001) (WY02-07)

WY01-08 (Mar. 2, 2001) (WY02-08)

WY01-09 (Mar. 2, 2001) (WY02-09)

WY01-10 (Mar. 2, 2001) (WY02-10)

WY01-11 (Mar. 2, 2001) (WY02-11)

WY01-12 (Mar. 2, 2001) (WY02-12)

WY01-13 (Mar. 2, 2001) (WY02-13)

WY01-14 (Mar. 2, 2001) (WY02-14)

WY01-15 (Mar. 2, 2001) (WY02-15)

WY01-16 (Mar. 2, 2001) (WY02-16)

WY01-17 (Mar. 2, 2001) (WY02-17)

WY01-18 (Mar. 2, 2001) (WY02-18)

WY01-19 (Mar. 2, 2001) (WY02-19)

WY01-20 (Mar. 2, 2001) (WY02-20)

WY01-21 (Mar. 2, 2001) (WY02-21)

WY01-22 (Mar. 2, 2001) (WY02-22)

WY01-23 (Mar. 2, 2001) (WY02-23)

WY01-24 (Mar. 2, 2001) (WY02-24)

Volume VII

Arizona

AZ01-01 (Mar. 2, 2001) (AZ02-01)

AZ01-02 (Mar. 2, 2001) (AZ02-02)

AZ01-03 (Mar. 2, 2001) (AZ02-03)

AZ01-04 (Mar. 2, 2001) (AZ02-04)

AZ01-05 (Mar. 2, 2001) (AZ02-05)

AZ01-06 (Mar. 2, 2001) (AZ02-06)

AZ01-07 (Mar. 2, 2001) (AZ02-07)

AZ01-08 (Mar. 2, 2001) (AZ02-08)

AZ01-09 (Mar. 2, 2001) (AZ02-09)

AZ01-10 (Mar. 2, 2001) (AZ02-10)

AZ01-11 (Mar. 2, 2001) (AZ02-11)

AZ01-12 (Mar. 2, 2001) (AZ02-12)

AZ01-13 (Mar. 2, 2001) (AZ02-13)

AZ01-14 (Mar. 2, 2001) (AZ02-14)

AZ01-15 (Mar. 2, 2001) (AZ02-15)

AZ01-16 (Mar. 2, 2001) (AZ02-16)

AZ01-17 (Mar. 2, 2001) (AZ02-17)

AZ01-18 (Mar. 2, 2001) (AZ02-18)

AZ01-19 (Mar. 2, 2001) (AZ02-19)

AZ01-20 (Mar. 2, 2001) (AZ02-20)

California

CA01-01 (Mar. 2, 2001) (CA02-01)

CA01-02 (Mar. 2, 2001) (CA02-02)

CA01-03 (Mar. 2, 2001) (CA02-03)

CA01-04 (Mar. 2, 2001) (CA02-04)

CA01-05 (Mar. 2, 2001) (CA02-05)

CA01-06 (Mar. 2, 2001) (CA02-06)

CA01-07 (Mar. 2, 2001) (CA02-07)

CA01-08 (Mar. 2, 2001) (CA02-08)

CA01-09 (Mar. 2, 2001) (CA02-09)

CA01-10 (Mar. 2, 2001) (CA02-10)

CA01-11 (Mar. 2, 2001) (CA02-11)

CA01-12 (Mar. 2, 2001) (CA02-12)

CA01-13 (Mar. 2, 2001) (CA02-13)

CA01-14 (Mar. 2, 2001) (CA02-14)

CA01-15 (Mar. 2, 2001) (CA02-15)

CA01-16 (Mar. 2, 2001) (CA02-16)

CA01-17 (Mar. 2, 2001) (CA02-17)

CA01-18 (Mar. 2, 2001) (CA02-18)

CA01-19 (Mar. 2, 2001) (CA02-19)

CA01-20 (Mar. 2, 2001) (CA02-20)

CA01-21 (Mar. 2, 2001) (CA02-21)

CA01-22 (Mar. 2, 2001) (CA02-22)

CA01-23 (Mar. 2, 2001) (CA02-23)

CA01-24 (Mar. 2, 2001) (CA02-24)

CA01-25 (Mar. 2, 2001) (CA02-25)

CA01-26 (Mar. 2, 2001) (CA02-26)

CA01-27 (Mar. 2, 2001) (CA02-27)

CA01-28 (Mar. 2, 2001) (CA02-28)

CA01-29 (Mar. 2, 2001) (CA02-29)

CA01-30 (Mar. 2, 2001) (CA02-30)

CA01-31 (Mar. 2, 2001) (CA02-31)

CA01-32 (Mar. 2, 2001) (CA02-32)

CA01-33 (Mar. 2, 2001) (CA02-33)

CA01-34 (Mar. 2, 2001) (CA02-34)

CA01-35 (Mar. 2, 2001) (CA02-35)

CA01-36 (Mar. 2, 2001) (CA02-36)

CA01-37 (Mar. 2, 2001) (CA02-37)

Hawaii

HI01-01 (Mar. 2, 2001) (HI02-01)

Nevada

NV01-01 (Mar. 2, 2001) (NV02-01)

NV01-02 (Mar. 2, 2001) (NV02-02)

NV01-03 (Mar. 2, 2001) (NV02-03)

NV01-04 (Mar. 2, 2001) (NV02-04)

NV01-05 (Mar. 2, 2001) (NV02-05)

NV01-06 (Mar. 2, 2001) (NV02-06)

NV01-07 (Mar. 2, 2001) (NV02-07)

NV01-08 (Mar. 2, 2001) (NV02-08)

NV01-09 (Mar. 2, 2001) (NV02-09)

General Wage Determination Publication

General Wage Determinations issued under the Davis-Bacon and related Acts, including those noted above, may be found in the Government Printing Office (GPO) document entitled “General Wage Determinations Issued Under The Davis-Bacon and Related Acts.” This publication is available at each of the 50 Regional Government Depository Libraries and many of the 1,400 Government Depository Libraries across the country.

General wage determinations issued under the Davis-Bacon and related Acts are available electronically at no cost on the Government Printing Office site at www.access.gpo.gov/davisbacon. They are also available electronically by subscription to the Davis-Bacon Online Service (http://davisbacon.fedworld.gov) of the National Technical Information Service (NTIS) of the U.S. Department of Commerce at 1-800-363-2068. This subscription offers value-added features such as electronic delivery of modified wage decisions directly to the user's desktop, the ability to access prior wage decisions issued during the year, extensive Help Desk Support, etc.

Hard-copy subscriptions may be purchased from: Superintendent of Documents, U.S. Government Printing Office, Washington, DC 20402, (202) 512-1800.

When ordering hard-copy subscription(s), be sure to specify the State(s) of interest, since subscriptions may be ordered for any or all of the seven separate volumes, arranged by State. Subscriptions include an annual edition (issued in January or February) which includes all current general wage determinations for the States covered by each volume. Throughout the remainder of the year, regular weekly updates are distributed to subscribers.

Signed at Washington, DC, this 19th day of February 2002.
Carl J. Poleskey,
Chief, Branch of Construction Wage Determinations.

[FR Doc. 02-4372 Filed 2-28-02; 8:45 am]

BILLING CODE 4510-27-M